FEDERAL COMMUNICATIONS COMMISSION

47 CFR Parts 1, 2, 73, 74, and 78

[ET Docket No. 01-75; FCC 01-92]

Revisions to Broadcast Auxiliary Service Rules

AGENCY: Federal Communications Commission

ACTION: Proposed rule.

SUMMARY: In this document the Commission conducts an extensive review of the Broadcast Auxiliary Services (BAS) rules and proposes changes to create a more efficient BAS that can readily adapt to regulatory and technological changes. In addition, the Commission examines the relationship between BAS, the Cable Television Relay Service (CARS), and the Fixed Microwave Service. The Commission also examines the use of wireless assist video devices (WAVDs) on unused television channels.

DATES: Comments must be submitted on or before June 25, 2001, and reply comments on or before July 23, 2001.

ADDRESSES: All filings must be sent to the Commission's Secretary, Magalie Roman Salas, Office of Secretary, Federal Communications Commission, 445 12th Street, SW., TW-A325, Washington, DC 20554.

FOR FURTHER INFORMATION CONTACT: Ira Keltz, Office of Engineering and Technology, (202) 418-0616.

SUPPLEMENTARY INFORMATION: This is a summary of the Commission's Notice of Proposed Rule Making in ET Docket No. 01-75, adopted March 16, 2001, and released March 20, 2001. The complete text of this Notice of Proposed Rule Making is available for inspection and copying during normal business hours in the FCC Reference Center (Room 239), 445 12th Street, SW., Washington, DC, and also may be purchased from the Commission's copy contractor, International Transcription Services, Inc., (202) 857-3800, 2100 M Street, NW., Suite 140, Washington, DC 20037.

Summary of the Notice of Proposed Rule Making

1. The Notice of Proposed Rule Making conducts an extensive review of the Broadcast Auxiliary Services (BAS) rules and proposes changes to create a more efficient BAS that can readily adapt to regulatory and technological changes. The Notice of Proposed Rule Making also examines the relationships between the BAS and the radio services that share frequency bands with the BAS. In many cases the BAS, the Cable Television Relay Service (CARS) (part 78), and Fixed Microwave Services (FS) (part 101) authorize technically and operationally similar stations (i.e., they use the same equipment, channelization, bandwidth, etc.) in shared frequency bands. The technical rules for these services are not always consistent, which, at times, has led to confusion regarding compliance and difficulties when licensees in different services have tried to operate in common geographic areas. Because we believe that this issue must be addressed to ensure that shared bands are used as efficiently as possible, we initiate this proceeding and again seek comment on the best way to conform the technical rules for these services.

2. One of our main goals is to ensure that licensees can operate in an environment in which the potential for interference is minimized. Interference protections are essential to spectrum usage rights to prevent licensees from unduly affecting other licensees in terms of system operation or cost. Nonetheless, we attempt to establish rules that are no more restrictive than necessary to achieve our goals in order to provide maximum flexibility to our licensees. Therefore, we seek comment on the extent that commenters believe our proposals or other portions of the rules relevant to this proceeding are more restrictive than necessary to achieve our goals.

3. The significant proposals made by this NPRM concerning BAS, as well as CARS and FS operations that share frequency bands with BAS, are as follows:

• We propose to permit TV and aural BAS stations to use any available digital modulation techniques in all BAS frequency bands. This proposal would allow BAS stations to take advantage of the latest developments in technology and to smooth the transition to digital TV and radio.

• We propose to update the BAS emission masks to facilitate the introduction of digital equipment and to provide consistency with those used in part 101.

• We propose to modify the equation used by BAS and CARS for determining the maximum effective isotropic radiated power (EIRP) for short path lengths. This proposal would eliminate the steep reduction in EIRP for path lengths shorter than the minimum for which we permit the use of full power.

• We propose to allow BAS and CARS stations to use automatic transmit power control (ATPC) in order to facilitate more efficient spectrum use.

• We propose to update the transmitter power rules for BAS and CARS to provide EIRP limits for all frequency bands.

• We propose to require TV BAS and CARS services to prior coordinate their frequency use when using shared frequency bands. This proposal would serve to minimize instances of harmful interference that occur when a new station begins transmitting.

4. In addition, we make a variety of proposals designed to update the BAS rules. Our initiatives include instituting temporary conditional authority for all BAS stations, updating the Remote Pickup BAS channel plan to provide compatibility with the channel plan adopted for private land mobile radio (PLMR) in the Commission's Refarming proceeding (PR Docket No. 92-235), updating the short-term operation rules, and updating the BAS application rules to make them consistent with the Universal Licensing System (ULS). We also propose, without discussion, many minor rule changes intended to clarify or fix typographical errors in existing rules.

5. Finally, we propose to allow wireless assist video devices to operate on certain VHF-TV and UHF-TV channels on a non-interference basis to services allocated on that spectrum. These devices, which are already used by broadcasters, are needed to aid film and television producers in filming at various locations in a cost effective manner and should result in a greater use of a finite spectrum resource.

BAS Technical Rules (Part 74) and Conforming Technical Rules for Parts 74, 78 and 101

Digital Modulation in the 2 GHz, 7 GHz, and 13 GHz Bands

6. Emission limitation requirements (emission masks) for digital modulation is addressed in 47 CFR 74.637(c), which provides an emission mask for analog or digital modulation in the 6425-6525 MHz, 17,700-19,700 MHz, and 31.0-31.3 GHz bands. Although the rules do not specifically prohibit digital modulation in other TV BAS bands (i.e., 2025-2110 MHz, 2450-2483.5 MHz, 6875-7125 MHz, and 12,700-13,250 MHz), the Commission policy relative to BAS has been to allow digital modulation only in bands where it is specifically authorized. To facilitate the transition to digital TV and to accommodate narrower channels in the 2 GHz band, we propose to modify the rules in § 74.637 to permit digital modulation in all TV BAS bands. In addition, to allow aural BAS licensees to take advantage of the spectral efficiency that digital modulation offers, we propose to modify 47 CFR 74.535 to permit the use of any digital modulation in all aural BAS bands.

Maximum Effective Isotropic Radiated Power (EIRP) for Short Paths

7. 47 CFR 74.644 specifies the minimum path length for which the maximum EIRP will be authorized for fixed links for TV BAS. Applicants proposing path lengths shorter than those specified, are required to reduce power in accordance with the equation provided in the rule section. We note that the rules in 47 CFR 78.108(b) for the CARS also use the same equation as used for BAS for determining the minimum path length. We believe that the CARS also would benefit from modifying the equation for determining maximum power for short path lengths. Accordingly, we propose to modify our rules to implement in 47 CFR 74.644 and 78.108 the same equation codified at 47 CFR 101.143 for determining the maximum EIRP for path lengths shorter than the specified minimum. We seek comment on this proposal.

8. We note that 47 CFR 74.644 does not specify a minimum path length for fixed BAS links in the 2450-2483.5 MHz band. However, part 101 does specify a minimum path length of 17 kilometers for the FS in all bands between 1850 and 7150 MHz. To promote spectrum efficiency by preventing the use of overpowered systems over short paths, we believe it would be beneficial to specify a minimum path length for BAS in the 2450-2483.5 MHz band. Thus, we propose to adopt a minimum path length of 17 kilometers for the BAS in the 2450-2483.5 MHz band. We request comment on whether this proposal would unnecessarily constrain part 74 operations. Additionally, we propose to grandfather any existing fixed links that may be less than 17 kilometers at their current power.

Transmitter Power

9. Currently, 47 CFR 74.636 and 74.534 specify the power limitations for TV and aural BAS, respectively. For some frequency bands only transmitter output power is specified, and for some frequency bands both transmitter output power and EIRP, which describes the amount of energy that is actually being radiated by the transmitting antenna, are specified. Because EIRP describes the amount of energy that is actually being radiated, it is the parameter that is pertinent to understanding the RF environment for coordinating stations and mitigating interference. Further, the use of the equation for maximum EIRP for short path lengths proposed above is contingent on the rules specifying a maximum EIRP value in each frequency band in which the equation applies. In addition, specification of EIRP values for BAS is consistent with the Commission's implementation of the Universal Licensing System (ULS), which is used to process BAS applications with those in part 101. We propose to modify the BAS rules to specify maximum EIRP values for all aural and TV BAS frequency bands.

10. We note that the rules in part 101 for FS microwave licensees specify EIRP values. Where EIRP values exist in the part 101 rules for fixed operations in frequency bands shared with fixed BAS, we propose to adopt the part 101 value for fixed BAS in the same band. Because many BAS and part 101 services are similar in nature, it appears reasonable for the same values to be used in both rule parts. Specifically, we propose that fixed operations for TV BAS in the 1990-2110 MHz and 2450-2500 MHz bands have EIRP limits of 45 dBW. For aural BAS in the 944-952 MHz band, we propose to limit EIRP to 40 dBW, which is identical to the limit specified in part 101 for FS in the 941.5-944 MHz and 952-960 MHz bands.

11. EIRP values also are necessary for mobile TV BAS operations in the 1990-2110 MHz and 2450-2500 MHz. The EIRP limits for mobile BAS can be generated using the maximum allowable transmitter power currently specified in the part 74 rules in conjunction with the gain of commonly available antennas. Our research suggests that typical maximum antenna gain is approximately 25 dBi in the 1990-2110 MHz and 2450-2500 MHz bands, and the maximum transmitter power is 12 watts (10.8 dBW) in these bands; this equates to an EIRP of 35.8 dBW. Accounting for some line loss, we propose to allow mobile operations to transmit at a maximum EIRP of 35 dBW in the 1990-2110 MHz and 2450-2500 MHz bands.

12. We also propose to adopt similar EIRP limits for CARS in frequency bands shared with part 74 and 101 operations to ensure that the anticipated benefits of these proposals can be enjoyed by all licensees in these bands. Specifically, we propose to adopt an EIRP limit of 35 dBW for mobile CARS operations in the 1990-2110 MHz band, identical to the proposal for TV BAS, and maintain the 55 dBW EIRP (fixed) and 45 dBW EIRP (mobile) limits for TV BAS and CARS operations in the 12,700-13,250 MHz band. We note that the part 101 rules for FS stations operating in the 12,700-13,250 MHz band only allow a maximum EIRP of 50 dBW. However, because BAS and CARS stations transmit multichannel video signals and FS stations do not, we believe the additional power is warranted to ensure reliable service. Finally, we propose to grandfather at their current power levels, existing stations that may be transmitting at EIRP levels above those proposed.

13. We seek comment on all aspects of these proposals. In particular, we ask commenters to address whether the proposed EIRP values are appropriate for BAS and CARS operations, and whether they provide adequate power for BAS and CARS stations to transmit over typical distances for various types of applications. Are the power levels too high as to cause difficulty in coordinating operations in certain areas? Would these proposals negatively impact the flexibility of BAS and CARS operations? Because digital signals generally require less power than analog signals, should we consider adopting different power standards for digital and analog equipment? If so, what should those values be? Also, commenters should address whether the EIRP for part 101 users operating in the 12,700-13,250 MHz band should be raised to 55 dBW.

14. Finally, we note that the transmitter power rules in part 101 specify only EIRP values and do not specify values for transmitter output power. Should we similarly amend the BAS rules to remove the specifications for transmitter output power from the rules? When considering this, commenters should keep in mind that FCC Form 601 does not collect output power for TV and aural BAS applications. Furthermore, for the purpose of frequency coordination only the EIRP is needed because it is a measure of station presence and transmitter output power is not. Commenters should also address what effect such action may have on the equipment authorization process and what changes to those processes may need to be made.

Emission Masks

15. Emission masks serve to maximize spectrum efficiency by permitting reasonable and practical information transfer within a channel and at the same time limiting out of band emissions to minimize adjacent channel interference. Our rules contain a number of emission masks tailored to specific operations and channel sizes. Although the same equipment is often certified and used by licensees in different services, our rules, in some cases, allow each service to use a different emission masks for the same type of emission (e.g., FM, AM, etc.) in the same frequency band.

16. We propose to make the emission mask requirements for BAS consistent with the emission mask requirements for FS microwave services in part 101. We believe that the part 101 emission masks have proven effective for this type of service and that imposing a single set of standards across shared frequency bands will simplify the manufacturing and equipment authorization processes. Additionally, consistent rules will provide a level of certainty to licensees regarding the expected RF environment, minimize the potential of harmful interference and simplify the frequency coordination process. Additionally, we propose to grandfather existing equipment authorized pursuant to current emission masks. We seek comment on these proposals.

TV BAS:

• For FM modulation in all TV BAS frequency bands, to eliminate the FM emission mask of § 74.637(a) and to apply the FM emission mask of § 74.637(c)(1). The emission mask in paragraph (c)(1) of § 74.637 would provide equipment manufacturers more flexibility in the design of equipment because it permits the out-of-band emissions to be attenuated at a slightly slower rate. Such flexibility can be gained without compromising the interference potential of these transmitters because we believe that the specified attenuation is sufficient to protect adjacent channel operations;

• For digital modulation in TV BAS frequency bands above 15 GHz, to apply the emission mask for digital modulation in § 74.637(c)(2);

• For digital modulation in all TV BAS frequency bands below 15 GHz, to apply the emission mask for digital modulation in § 101.111(a)(2)(i) of this chapter;

• For vestigial sideband amplitude modulation in all TV BAS frequency bands, to apply the emission mask for vestigial sideband amplitude modulation in § 74.637(c)(3); and

• For all other types of modulation in all TV BAS frequency bands, to apply the emission mask of § 74.637(b).

Aural BAS:

• For FM modulation in all aural BAS frequency bands, to eliminate the FM emission mask of § 74.535(a) and to apply the FM emission mask of § 74.535(e)(1). As with the choice of emission mask for TV BAS, the emission mask of paragraph (e)(1) would provide equipment manufactures more flexibility in equipment design than the emission mask of paragraph (a) of § 74.535;

• For digital modulation in aural BAS frequency bands above 15 GHz, to apply the emission mask for digital modulation in § 74.535(e)(2);

• For digital modulation in aural BAS frequency bands below 15 GHz, to apply the emission mask for digital modulation in § 101.111(a)(2)(i) of this chapter; and

• For all other types of modulation in all aural BAS frequency bands, to apply the emission mask of § 74.535(b).

17. In trying to provide consistency among the various rule parts, we are also mindful of certain differences between them, such as the type of multiplexing employed, the type and amount of data or program material transmitted, and the method of transmission. For example, BAS and CARS are beginning to deploy digital multichannel video systems which are not used by FS users. Additionally, these stations may use various modulation schemes, such as OFDM or COFDM and others. In light of these developments, we seek comment on the validity of our proposals to adopt the Part 101 digital emission masks for BAS.

18. One of the main objectives of this NPRM is to provide the necessary regulatory framework to ensure that digital equipment can be used in all BAS frequency bands. It is likely that for the foreseeable future many BAS operations both above and below 15 GHz will continue to be analog. However, as users upgrade equipment and the transition to DTV continues, more digital equipment will be deployed. Given this situation, we ask commenters to address whether the BAS and FS should continue to have different digital emission masks above and below 15 GHz. We note that analog BAS operations in shared bands above 15 GHz, e.g., the 17.7-19.7 GHz band, are currently operating adjacent channel to digital Part 101 equipment. Additionally, we ask commenters to address whether the current Part 101 emission masks are applicable to BAS operation. Commenters that believe a different emission mask should be adopted should provide details on an appropriate emission masks for digital operation. What parameters need to be considered? What type of roll-off is appropriate to ensure sufficient information transfer while providing adequate protection to adjacent channels? Also, we seek comment of whether the same or different emission masks should be applied to CARS and FS stations.

19. We also propose to adopt a standard measurement procedure for the above proposed emission masks to measure the emission's interference potential and ensure that the instrumentation does not detrimentally affect the measurement. Therefore, we propose that the measuring instrumentation for complying with the emission masks use a minimum resolution bandwidth of 100 kilohertz for bands below 1 GHz and a resolution bandwidth of 1 megahertz for bands above 1 GHz. This proposal is consistent with available measurement instrumentation. Additionally, we note that the current industry trend for measuring digital emissions just outside the channel is to use measuring instrumentation having a minimum resolution capability of 1% of the bandwidth of the carrier emission. This is evidenced by measurement procedures and interpretations in our rules (see, e.g., 47 CFR 15.321(d), 15.323(d) and 24.238(b)) for the licensed Personal Communications Services (PCS) and unlicensed PCS devices. Should a similar measurement procedure for emissions adjacent to the channel be used for BAS? We seek comment on our proposal, including what procedures should be used. To ensure consistency across frequency bands shared with the FS microwave service, should a similar measurement requirement be adopted for part 101 emission masks? If we adopt similar emission masks for the CARS, should a similar measurement requirement be adopted for part 78 emission masks?

20. With respect to compliance with the emission mask requirements, an additional issue that must be addressed is equipment that multiplexes both analog and digital signals for transmission over a single channel. Such operation complicates the equipment certification process because the emission masks are referenced to either analog or digital modulation techniques, but not both. In the FS, a transmitter is considered to be using digital modulation techniques, and must meet those emission requirements, when digital modulation occupies 50% or more of the total peak frequency deviation of a transmitted radio frequency carrier. We believe this rule has worked well for equipment in use under part 101, and we propose to adopt a similar requirement for the emission masks for TV and aural BAS. We seek comment on whether this is the best method for ensuring compliance with our emission mask rules when analog and digital signals are multiplexed.

21. Finally, an issue related to the characterization of analog/digital multiplexed transmitters involves the assignment of emission designators. In many cases, this hybrid equipment uses frequency division multiplexing and transmits the analog and digital signals side-by-side. When this technique is used, the analog and digital signals are transmitted on frequencies offset from the assigned frequency. For example, a hybrid transmitter with a 25 megahertz bandwidth may have a 15 megahertz analog signal centered on a frequency 5 megahertz above the assigned frequency and a digital signal centered on a frequency 7.5 megahertz below the assigned frequency. SBE asks that these transmitters be licensed using a dual emission designator, rather than the single designator used for conventional FM video analog STLs. We note that the ULS is not designed to recognize a dual emission designator and is unable to capture the information SBE requests. ULS does, however, enable licensees to obtain authorizations for both analog and digital emissions by allowing multiple emission designators to be associated with an authorized frequency. In this instance, though, the emission designator would need to depict the entire 25 megahertz bandwidth for each type of emission. We further note that the information sought by SBE can be determined using the transmitter manufacturer and model number which ULS does collect. For these reasons, we propose that hybrid radios that multiplex analog and digital signals continue to use a single emission designator. We seek comment on this proposal.

Automatic Transmit Power Control

22. Since 1996 when the Commission amended its part 101 rules, Automatic Transmit Power Control (ATPC) has been used successfully in the FS microwave bands. Because ATPC has been beneficial to efficient spectrum use in FS operations under part 101, we propose to amend the part 74 rules to state that TV BAS licensees may also use ATPC. We see no reason why the benefits of using ATPC should be limited to the TV BAS, and thus we also propose to modify §§ 74.534 and 78.101 of our rules to allow licensees of aural BAS and CARS stations to use ATPC as well.

Interference to Geostationary Satellites

23. Because the geostationary satellite rules are subject to international agreement, maintaining them in multiple rule parts is cumbersome and has led to varying requirements among the rules in parts 74, 78, and 101 because they are not always updated at the same time. To remedy this situation, we propose to simplify the organization of the geostationary satellite protection rules by eliminating duplicative rule sections and having them appear only once. Therefore, we propose that the technical rules for protecting geostationary satellites from interference from terrestrial systems be maintained in part 101, and that parts 74 and 78 merely state that licensees must comply with the geostationary satellites protection rules contained in part 101. This proposal will have the effect of simplifying and streamlining our rules by keeping the rules regarding a common subject in one place, which ensures consistent treatment of all our licensees. Additionally, should these rules need future updating due to changes in the Radio Regulations or changes in service allocations, only one rule section will need to be amended. We seek comment on this proposal.

Frequency Coordination

24. Currently, parts 74 and 78 of the Commission's rules for TV BAS and CARS require that the frequency coordination procedures of part 101 be used for assignments in the 6425-6525 MHz and 17.7-19.7 GHz bands. The part 101 procedures generally require parties to coordinate their planned spectrum use with affected parties prior to filing a license application. Additionally, the TV BAS and CARS rules specify identical interference protection criteria for the 12,700-13,250 MHz band. Such rules are necessary to promote spectrum efficiency and to minimize the potential for any system to cause harmful interference to other systems in the same frequency band. In the part 101 Order, 61 FR 26670, May 28, 1996, the Commission amended its rules to conform the frequency coordination procedures for microwave systems to the TIA industry standards and to apply these standards to all bands.

25. As stated in the part 101 Order, common procedures and standards will simplify the rules and lead to economies of scale in microwave equipment. Those same benefits can also be enjoyed by BAS and CARS. Thus, we propose to require that all prospective applicants in frequency bands above 1990 MHz for TV BAS and CARS coordinate their planned spectrum use prior to filing applications, using the procedures of § 101.103(d). Further, in order that applicants and licensees can easily locate the coordination rules, we propose to amend § 78.36 to mirror the part 101 coordination rules. We seek comment on this proposal and ask if we should reference the part 101 rule within part 78 rather than reproducing it.

26. In addition to the efficiency benefits stated above, uniform frequency coordination requirements will simplify the coordination of stations operating in shared frequency bands and minimize the potential of stations causing harmful interference. We seek comment on our proposal to require TV BAS and CARS operations to prior coordinate their stations using the part 101 procedures. In considering this proposal, commenters should address whether a frequency coordination requirement should be imposed uniformly across the United States or should it only apply to the most heavily congested markets. If frequency coordination should only apply in certain markets, commenters should state which markets are appropriate and the factors used in making that determination.

27. Additionally, we note that coordination rules are not specified for aural BAS stations. Recognizing that thousands of aural BAS stations are in use serving AM and FM radio stations across the United States, we seek comment on whether the lack of coordination requirements for this service has led to interference situations. Should the Commission require aural BAS stations operating above 944 MHz to also adhere to the procedures of § 101.103(d)?

Frequency Tolerance

28. Frequency tolerance is the maximum permissible deviation of the center frequency of an emission from its assigned frequency. To streamline our rules further and to offer manufacturers common technical standards for equipment, we propose to amend the frequency tolerance rules for TV BAS. Specifically, consistent with the proposal made in the part 101 NPRM, 65 FR 38333, June 20, 2000, we propose to eliminate separate frequency tolerance requirements for base and mobile operations. Additionally, we note that the current TV BAS frequency tolerance rules do not specify a limit for the 2450-2483.5 MHz band. To remedy this situation, we propose to adopt a frequency tolerance of 0.001% for fixed and mobile TV BAS equipment operating in the 2450-2483.5 MHz band. This proposal is consistent with the frequency tolerance allowed in Part 101 for FS this band. Finally, we propose to grandfather existing authorized equipment at their current frequency tolerance. We seek comment on this proposal.

Use of the 13.150-13.2125 GHz Band by BAS and CARS Pickup Stations

29. Recently, in ET Docket No. 98-206, the Commission allocated Non-Geostationary Fixed Satellite Service (NGSO FSS) uplinks on a co-primary basis in the 12.75-13.25 GHz band. However, the NGSO FSS systems were excluded from operating in the 13.15-13.2125 GHz band (channels A19, A20, B19 and B20). The 13.15-13.20 GHz portion of that band is currently used by TV BAS and CARS Pickup Stations within 50 kilometers of the top 100 television markets and by fixed TV auxiliary stations in all other areas. In the NGSO Order, 66 FR 7607, January 24, 2001, the Commission expanded these exclusions in favor of TV BAS and CARS to include frequencies up to 13.2125 GHz and to extend to the entire United States. The Commission took this action with the expectation that BAS and CARS mobile operations will concentrate their mobile use on those four channels. Based on the action taken in the NGSO Order, we propose to update § 74.602(a) Note 2 to reflect these changes. Further, we propose to grandfather all fixed stations that were licensed in the 13.15-13.2125 MHz band prior to the effective date of the rules in the NGSO Order. We seek comment on this proposal.

Use of the 31.0-31.3 GHz and 38.6-40.0 GHz Bands by the BAS and CARS

30. In 1997, the Commission reallocated the 31.0-31.3 GHz band to the Local Multipoint Distribution Service. Consequently, BAS and CARS are no longer authorized to obtain new assignments in that band, and a search of our database reveals that there are not any currently active authorizations for BAS or CARS in that band. In this connection, we note that the frequency assignment rules in 47 CFR 74.502 for aural BAS, 74.602 for TV BAS, and 78.18 for CARS no longer reference the 31.0-31.3 GHz band. However, many of the technical rules continue to mention this band. Therefore, we propose to eliminate references to technical parameters for the 31.0-31.3 GHz band that currently exist in the aural BAS, TV BAS and CARS rules.

31. Similar to the 31.0-31.3 GHz band, the Commission, in 1997, adopted rules and procedures to assign the 38.6-40.0 GHz band by competitive bidding. This band had been available for assignment to mobile BAS and CARS licenses without bandwidth limitation and on a secondary basis to fixed stations. In addition to the new assignment procedures, the Wireless Telecommunications Bureau (WTB), pursuant to delegated authority, adopted a Freeze Order, 61 FR 8062, March 1, 1996, announcing that the Commission would no longer accept for filing any new applications for 39 GHz licenses in the Common Carrier or Operational Fixed Point-to-Point Radio Services. In May 2000, the Commission assigned 2,173 licenses in 175 Economic Areas by competitive bidding in this band. Because the band has been auctioned and consistent with the Freeze Order, no new assignments can be made for BAS or CARS licenses in the 38.6-40.0 GHz band. Accordingly, we propose to remove all references to the 38.6-40.0 GHz bands from the BAS and CARS rules. As a final matter we note that there are 16 incumbent Television Pickup BAS and no CARS licensees operating in this band. The BAS licensees may continue to operate under the parameters of their current licenses and to renew them in the future. We seek comment on this proposal.

Additional Rule Consolidation

32. We make various proposals which conform rules among parts 74, 78, and 101. In general, for service specific rules, such as maximum EIRP for short path lengths and transmitter power, we keep those rules with each rule part. However, for rules that affect each of the services sharing spectrum, our preference is to list that rule only in one location and cross reference the other rule parts to that single listing. For example, we propose that the rules regarding interference to geostationary satellites be listed only in part 101 and cross referenced from parts 74 and 78. When several services are subject to the same requirements, having that requirement in only one location ensures consistent treatment of all our licensees and simplifies the update process if any of these procedures should change. We seek comment on whether there are additional instances in which the rules can be consolidated and cross referenced.

BAS Service Rules (Part 74)

Temporary Conditional Authority

33. To complement the above proposal that aural and TV BAS stations coordinate their applications prior to filing, we propose to allow applicants who apply for new or modified stations to operate under temporary conditional authority after an application has been properly filed with the Commission. Our experience regarding temporary conditional operation in parts 90 and 101 has shown it to be a useful tool which enables applicants to begin providing service in a timely manner without having to wait for the Commission to finish processing their applications. This proposal, however, is contingent on our proposal to require prior frequency coordination of the requested operations. By relying on the coordination process, the Commission can be assured that BAS operations will not cause harmful interference to existing stations.

34. In addition to requiring prior coordination, we propose to make temporary conditional authority subject to the following conditions:

• The applicant must be eligible to operate the particular class of broadcast auxiliary station.

• The station must be operating in conformance with the rules for that particular class of station and in accordance with the terms of the frequency coordination.

• The application does not propose operation in an area that requires international coordination.

• The application does not request a waiver of the Commission's rules.

• The proposed station will not significantly affect the environment as defined in part 1, subpart I of the Commission's rules.

• The antenna structure either has a FCC Registration Number or is determined to not need one.

• The proposed station affords protection to radio “quiet” zones and monitoring stations.

35. We also propose to allow temporary conditional authority for low power auxiliary stations authorized under part 74, subpart H. Although these stations do not require prior coordination and we are not proposing to add such a requirement, we believe that they can operate under this authority without harming existing operations due to the restriction that they limit their power to 1 watt output power.

36. We propose to remove 47 CFR 74.431(g) and adopt a new rule section, 47 CFR 74.25, to allow temporary conditional authorizations for all broadcast auxiliary services. We seek comment on these proposals.

Short-Term Operation

37. Section 47 CFR 74.24 provides broadcast licensees regulated under part 73 of our rules (i.e., AM, FM, and TV broadcast stations, including Class A stations) with the authority to operate a broadcast auxiliary station on a short-term basis, for up to 720 hours per year, without prior authorization from the Commission. This rule provides broadcasters with flexibility to respond to short term situations such as a newsworthy event outside of a station's normal operating area, without coming to the Commission with requests for special temporary authority (STA). We note that this rule does not afford the same flexibility to broadcast network entities, cable network entities, or Low Power Television Stations (LPTV), even though these entities are eligible to hold BAS licenses. Because we believe that broadcast and cable network entities and LPTV stations would benefit from the short-term operation rule and such use would provide equity under our rules for all entities eligible for a BAS license, we propose to expand the eligibility of this rule.

38. As noted, there is a notification requirement with which licensees must comply prior to operating under the short-term operation rule. This notification requirement, however, does not apply when “* * * an unanticipated need for immediate short-term mobile station operation would render compliance with the provisions of this paragraph impractical.” For example, a station may wish to send a news crew to report on a natural disaster that occurs outside of its service area, which by its nature is not a planned event. On the other hand, stations may wish to report from a convention or sporting event or other planned events. In these instances, it is not acceptable to bypass the notification requirement. Because these are scheduled events, stations should have ample time to provide the necessary notification prior to the event. Accordingly, we propose to clarify that entities may not invoke the notification exception for scheduled events.

39. The Commission often designates a coordinator as the single point of contact for advance coordination of auxiliary broadcast frequency usage for major national and international level scheduled news events. In the past, groups would petition the Commission prior to a major event and volunteer to act as the special event coordinator. The Commission has taken this action based on concern that uncoordinated use of auxiliary broadcast stations on a temporary basis might result in spectrum congestion and excessive interference causing less complete broadcast coverage. Currently, the rules do not contain a procedure for designating a coordinator for short-term operations. To remedy this deficiency, we propose that procedures to designate a coordinator for short-term operations be placed in the rules. Specifically, the Commission will not, on its own, designate a special events coordinator. Such designation will continue to be bestowed on an entity only after the Commission receives a request to designate a coordinator. The Commission will issue a Public Notice to inform the broadcast industry that such a designation has been made. Typically, these Public Notices have been issued at least three months prior to an event, with many occurring up to a year prior. Once an organization receives such designation, coordination must be done on a non-discriminatory basis. Entities must abide by the decision of the coordinator. However, if a disagreement arises, the Commission will be the final arbiter of any dispute. We seek comment on this proposal.

40. We also seek comment on the current limitation of 720 hours per year per frequency for short-term operations. Based on the way event coverage has changed over time, is this limit still appropriate? Should it be increased or decreased? Additionally, we note that there is no requirement for stations to log or report their short-term use under this section, and thus there is no way to track operation under this rule and verify compliance. Should we require stations to keep a log of their short term use in their station records, or alternatively, should we eliminate the 720 hour limit? We seek comment on this and all aspects of our proposals regarding the short-term operation rule.

Use of UHF-TV Channels for TV STLs and TV Relay Stations

41. Under 47 CFR 74.602(h), TV STLs and TV relay stations may be authorized, on a secondary basis, to operate on spectrum allocated for UHF-TV stations. In addition to being secondary to full power UHF-TV and Class A TV stations, these stations are also secondary to LPTV stations and translator stations, and to land mobile stations authorized under parts 22 and 90 of the rules in areas where land mobile sharing is currently permitted. Also, because transmissions by TV STL and relay stations are not necessarily used by licensees to transmit information for broadcast over the air, their signals are not intended for reception by the general public. To meet these obligations, licensees generally employ a narrow-beam point-to-point signal. The rules, however, do not contain any guidelines regarding acceptable power limits or antenna specifications for these stations. Instead, the Commission has developed policies to determine compliance of these stations with the rules. Specifically, applicants that request output power greater than 20 watts or a transmitting antenna with a 3 dB beamwidth greater than 25 degrees are asked to submit an engineering analysis to demonstrate why the higher output power or wider beamwidth is necessary. Because the Commission is increasingly relying on automated processing, as evidenced by the ULS, we believe that it would be beneficial to codify operational parameters for these stations so that prospective applicants have as much information as possible to assist them. We believe that this will shorten the application process by minimizing the number of applications that need to be returned due to failure to submit an engineering analysis if the stated specifications are exceeded. We believe that an appropriate trigger for requiring an engineering analysis is an EIRP for the proposed system of 35 dBW. We expect that allowing licensees to use EIRPs up to 35 dBW without submitting an engineering analysis will provide licensees with flexibility to choose optimal power and antennas for their systems while meeting the requirements of transmitting on a non-interference basis and propose to adopt this limit in our rules.

42. We believe that our current policy, which limits the antenna to a 3 dB beamwidth of 25 degrees or less has served both users and those they are required to protect. The Commission also has generally requested operators of these stations to transmit using vertical polarization, rather than the standard horizontal polarization that is employed for TV transmissions. The Commission implemented this policy to safeguard STL and relay station transmission from reception by the public. We believe that these criteria also should be codified in the rules. Accordingly, we propose to modify 47 CFR 74.602(h) of the rules to require applicants for TV STLs or TV relay stations to comply with the three technical parameters described above or to submit an engineering analysis explaining why higher power, a wider antenna, or a different polarization is needed.

43. In addition, we note that the Commission regularly licenses TV translator relay stations on UHF-TV channels. Therefore, to make the rules consistent with current licensing policy, we propose to explicitly state in 47 CFR 74.602(h) that these stations may be authorized to operate on UHF-TV channels on a secondary basis, subject to the same guidelines described above. We seek comment on this proposal.

44. Finally, the current rules in 47 CFR 74.602(h) authorize the secondary point-to-point use of TV STL and TV relay stations on UHF-TV channels 14-69. We note that the Balanced Budget Act of 1997 directed the Commission to auction recaptured television broadcast spectrum and to allocate spectrum in the 746-806 MHz band (UHF-TV channels 60-69) for public safety services and for commercial use. The Commission has already implemented the reallocation of the 746-806 MHz band and intends to reallocate the 698-746 MHz band (UHF-TV channels 52-59) in the future. In light of the reallocation of the UHF-TV channels above channel 51, we propose to limit future secondary point-to-point use of TV STL and TV relay stations to UHF-TV channels 14-51. We further propose to grandfather existing stations that operate on the UHF-TV channels above channel 51. We seek comment on this proposal.

TV BAS Sound Channels

45. 47 CFR 74.603 of the Commission's rules provides authority for TV BAS stations to use an aural broadcast STL or intercity relay station licensed under the aural BAS rules to transmit the aural portion of a television broadcast program. This use is on a secondary non-interference basis to programming of aural broadcast stations. It is our understanding that the current practice within the industry is to use multiplexing techniques, rather than separate sound channels, to transmit the aural portion of their programming along with the video portion over a single TV BAS channel. Therefore, we believe that 47 CFR 74.603 is no longer necessary, and we propose to eliminate it. Additionally, we propose to eliminate the corresponding provision of 47 CFR 74.502(b) that provides TV BAS licensees' authorization to use the aural BAS channels. If we eliminate these provisions as proposed, we seek comment on whether the aural BAS rules need to be modified to specify that aural BAS stations are for the transmission of aural program material of an aural broadcast station in all places where the rules simply refer to a broadcast station.

46. We seek comment on whether we should delete 47 CFR 74.603(c), which provides grandfathering rights so that TV BAS stations could continue operating aural STL or intercity relay stations that were in service prior to July 10, 1970. That rule states that such grandfathering could continue until the Commission makes a decision on their disposition through a rule making proceeding. In particular, we seek comment on whether any stations continue to maintain and operate separate stations for aural and video content and where such use occurs. This proposal might particularly affect stations in smaller markets where there are fewer AM or FM radio stations.

Remote Pickup Broadcast Auxiliary Frequency Assignment

47. In 1984, the Commission wrote a comprehensive revision of the rules for remote pickup frequency assignments, which split the channels in the 150 MHz, 160 MHz and 450 MHz bands into 5 kilohertz channels that could be “stacked” to create channels of various sizes. Thus, licensees could continue operating their equipment under existing licenses and new licensees, and existing licensees seeking to update their systems could make use of newer narrowband technology. The Report and Order, 49 FR 45155, November 15, 1984, however, stated that an effective date for these rules would be specified in a future Order. To date, the Commission has not taken such action. The rules written in 1984 were intended to provide licensees more freedom to choose and implement new technologies in their effort to make the most efficient use of the spectrum. Because many technical and regulatory changes have occurred since 1984, we propose to amend the rules adopted in 1984, to ensure that this objective will be achieved.

48. The channel plan in place prior to the 1984 revision provided 60 kHz channel spacing in the 150 MHz (Group K1 channels) and 160 MHz (Group K2 channels) VHF bands and various channel spacings (from 10 kHz to 100 kHz) in the 450 MHz UHF band.

49. Since 1984, significant advances have been achieved in the development of narrowband radios, such as the maturation of digital modulation techniques, improved coding processes, and development of more stable oscillators. In 1995, based on advances such as these, the Commission adopted a narrowband channel plan for the 150-174 MHz and 450-512 MHz bands used by part 90 Private Land Mobile Radio Service (PLMRS) licensees. In that decision, the Commission adopted a channel plan in which channels were spaced every 7.5 kilohertz in the 150 MHz band and every 6.25 kilohertz in the 450 MHz band. Under certain circumstances, these channels could be stacked to allow the use of 6.25, 12.5 or 25 kilohertz equipment.

50. Because many of the 150 MHz and 160 MHz Remote Pickup channels are shared with the part 90 Industrial/Business Pool, we believe that it would be beneficial for both services to share a common channel plan. These benefits include more predictable adjacent channel performance, easier coordination procedures, and economies of scale for equipment. Under the 1984 rules, however, these benefits would not be realized if Remote Pickup licensees modify their operating frequencies to correspond to channel centers based on 5 kilohertz spacing. A shift to 5 kHz spacing for BAS would create an operating environment in which parts 74 and 90 licensees are operating co-channel offset by 2.5 kilohertz or by 5 kilohertz. In many cases there would be significant overlap of RF energy between adjacent channels which could degrade the performance of user's systems as other nearby users attempt to transmit on closely spaced adjacent channels. In addition to the increase in potential interference, these conflicting channel plans would complicate the frequency coordination process. Consequently, we propose to amend the frequency assignment rules for the 150 MHz and 160 MHz bands in 47 CFR 74.402 to be consistent with the channel plan in effect in part 90 (i.e., 7.5 kilohertz channel spacing). Additionally, we propose to allow licensees to stack up to 4 channels to operate on channels as wide as 30 kilohertz. We believe that implementing this channel plan suits Remote Pickup BAS operators as it does PLMRS providers, and it will benefit users by allowing for common equipment to be used for both parts 74 and 90 licensees. Remote Pickup Service licensees would be able to take advantage of further advancements in land mobile radio technology as it is developed and brought to market. We believe that the vast majority of licensees in the 150 MHz and 160 MHz bands can be accommodated by the proposed channel plan without having to change their equipment. There are only 7 remote pickup licensees in the 150 MHz band and 25 in the 160 MHz band that have begun operating using the 1984 channel plan. Only these licensees would need to transition to the proposed plan.

51. We also propose to modify the 1984 channel plan for the Group N1 and N2 450 MHz Remote Pickup channels. In this case, we propose to standardize the remote pickup channel plan with the part 90 channel plan by listing channels 6.25 kilohertz apart and allowing licensees to stack up to 8 channels (50 kilohertz). Although part 74 licensees do not share this band with part 90 licensees, by aligning to the part 90 channel plan, BAS licensees in this band will reap the same benefits as those expected for the VHF band. Under our proposal, a transition to the proposed plan would be needed only for those licensees who implemented the 1984 plan.

52. To accommodate all licensees who are operating in compliance with the 1984 channel plan, we propose to give them three years from the date a new channel plan is adopted by the Commission to modify their equipment and comply with the new plan. We believe that this provides licensees adequate time to either retune or replace equipment. However, because the number of licensees affected by our proposals is small, we propose to provide them the option to continue operating using the 1984 channel plan after the three year transition period ends, but only on a secondary, non-interference basis. We believe that this course of action will minimize disruption to existing remote pickup BAS systems. Finally, we note that this proposal is consistent with the treatment of part 90 licensees that were operating on 5 kHz channels in the VHF band prior to the Refarming proceeding.

53. The Group P channels are limited to operational communications, including tones for signaling and for remote control and automatic transmission system control and telemetry. Because there are only eight Group P channels (four at each end of the band) and they are limited to this specialized use, we are not inclined, at this point, to alter them. However, in light of the technological advances in radio cited above, we are not convinced that the Group R and Group S wide bandwidth channels are still needed. Although we are not making specific proposals for these three groups of channels, we seek comment on the extent to which these channels are being used. Should their current bandwidth designations be maintained or should they also be aligned with the 6.25 kilohertz channel plan?

54. Because Remote Pickup Service licensees will benefit most by having the capability to choose from a wide variety of radios, and in accordance with our proposal to standardize the Remote Pickup channels with those listed in part 90, we believe that this service should adhere to the technical standards of part 90. In this way, part 74 licensees could choose from among the wide variety of radios available for PLMRS licensees. Accordingly, for equipment designed to operate on channels with bandwidths of 30 kilohertz or less in the VHF and UHF Remote Pickup Service bands, we propose that the equipment comply with the part 90 technical rules for the emission mask and frequency stability. Additionally, we ask commenters to address whether the transient frequency behavior rules in 47 CFR 90.214 would be appropriate to impose on remote pickup service transmitters.

Federal Narrowbanding of 162-174 MHz Band Land Mobile Frequencies

55. The Interdepartment Radio Advisory Committee (IRAC) has been working for the last several years on narrowbanding Federal Government operations in a number of frequency bands. Based on the work of the IRAC, the National Telecommunications and Information Administration (NTIA) has published the final policy in the Manual of Regulations and Procedures for Federal Frequency Management. We note that one of the frequency bands subject to narrowbanding is the 162-174 MHz band, and that the Remote Pickup BAS may share, on a secondary basis, two frequencies—166.25 MHz and 170.15 MHz—in this band with Federal Government users. Under 47 CFR 2.106, Note US11, remote pickup stations may use these frequencies except within 150 miles of New York City where they are reserved for use by public safety users, in Alaska, or in the Tennessee Valley Authority area. We also note that these frequencies are used in some areas by fixed stations in the Emergency Alert System (EAS) to relay information to local stations for dissemination to the public. It has been the policy of NTIA and the FCC to protect these EAS stations from potential harmful interference.

56. Under the narrowbanding policies adopted by NTIA, all new Federal Government systems after January 1, 1995, and all Federal Government systems after January 1, 2005, in the 162-174 MHz band must be capable of operating within a 12.5 kHz channel. The current Commission rules provide for operations on channels up to 25 kilohertz wide. In order to ensure continued successful sharing of the spectrum with Federal Government users, we propose to require that Remote Pickup BAS use of the 166.25 MHz and 170.15 MHz frequencies be in accordance with the same 12.5 kHz channel size and meet the January 1, 2005 implementation schedule applicable for all Federal Government users. Notwithstanding the need for new equipment, what are the advantages and/or disadvantages to implementing this proposal? For example, migrating to the narrow channels may improve adjacent channel performance, but will it harm the quality of the information being transmitted? Additionally, we propose to formally acknowledge the protected status of non-Federal Government stations operating on these frequencies that are used as an integral part of the EAS. These proposals encompass a revision of § 2.106, footnote US11 and a change in § 74.462 of our rules. We seek comment on these proposals.

Universal Licensing System and BAS

57. ULS is an automated licensing system and integrated database designed to infuse greater efficiency into the licensing process by using a consolidated set of application forms, automating many license review processes, and facilitating electronic application filing and data retrieval. The Wireless Telecommunications Bureau began using ULS for Aural and TV BAS licensing on August 30, 1999 and for Remote Pickup BAS on September 19, 2000. Due to this transition, many BAS service rules require updating to reflect ULS application processing procedures. Many of these changes are ministerial in nature, such as updating application form numbers. In some cases, more substantive rule changes are necessary and merit additional discussion. These proposals are discussed further.

General Application Procedures

58. One of the main changes promulgated by the ULS Report and Order, 63 FR 68904, December 14, 1998, was to consolidate the application and processing rules for all wireless services into a single subpart in part 1 of the Commission's rules. Subpart F of part 1 is now the sole section of rules that wireless applicants and licensees, including BAS applicants and licensees, consult regarding the handling of various application procedures. To make clear that the BAS adheres to the rules laid out in part 1, Subpart F, we propose amending 47 CFR 1.901 and 1.902 to add the appropriate references to part 74. Similarly, we propose to add a new section, 47 CFR 74.6, to reference BAS applicants and licensees to the application and processing rules in part 1, Subpart F.

Construction Period for BAS Stations

59. Under the part 1, Subpart F rules, the Commission issues a license which specifies the construction period set forth in the rule part governing the specific service. Licensees are to notify the Commission when operations commence, and licensees that fail to commence operations within the required construction period automatically forfeit their license. Stations operating under the broadcast auxiliary rules are subject to the construction requirements specified in 47 CFR 73.3598, which provide three years to construct stations from the date a construction permit is issued. However, a two step license mechanism of issuing a construction permit and a license subsequent to construction is not used for wireless services. Instead, the current practice is to issue a TV or aural BAS license with a requirement to construct a station within 18 months and a remote pickup BAS license with a requirement to construct a station within 12 months. We propose to amend 47 CFR 73.3598 and related rules in part 73 to remove references to broadcast auxiliary stations and to create a new § 74.34 to specify rules for the construction of BAS stations.

60. Accordingly, we propose to modify the rules to codify current Commission practice. We propose to modify the construction period for remote pickup BAS to 12 months; the same period allowed for PLMR stations authorized under part 90. Also, we propose to modify the construction period for TV and aural BAS stations to 18 months. We believe that fixed aural and TV BAS stations are similar to fixed microwave stations, which are authorized under part 101 and have an 18 month construction period. We seek comment on this proposal, including alternative time periods for constructing BAS stations.

Special Temporary Authority

61. Under the rules in part 74, BAS licensees may apply for an STA by informal application, which has generally been interpreted to mean by letter request. In the ULS Report and Order, the Commission adopted rules that eliminate letter requests for all purposes where a form can be used. In implementing this policy, the Commission stated that this will, “reduce applicant and licensee burdens, increase efficiency and better serve the public interest.” In keeping with this policy and the stated benefits, we propose to amend the part 74 rules for BAS to require that STA requests follow the procedures outlined in 47 CFR 1.931 of the Commission's rules. We note that when an immediate STA is needed during times of emergency or natural disaster, requests can be made via telephone or facsimile and such requests can be granted orally. In these situations, STA recipients are required under the rules to follow up with a formal application as soon as feasibly possible. We seek comment on this proposal.

Classification of Filings as Major or Minor

62. In the ULS Report and Order, the Commission adopted rules to define certain actions as major changes for all wireless services. Additionally, the Commission adopted rules which define major changes for each service category. Minor changes are defined as all changes that are not major. These designations when used in conjunction with other adopted rule amendments assist the Commission in streamlining the licensing process. As an example, § 1.947(b) allows applicants to make minor modifications to their stations without prior Commission approval so long as they file an application form within thirty days of making such a modification. ULS, programmed with logic that can automatically determine if an application for modification is major or minor, can then process these applications without the need for prior intervention by Commission staff. Applicants get their applications processed faster, and Commission staff is freed up to concentrate on other tasks.

63. Accordingly, we propose to amend the part 74 rules in accordance with the procedures already adopted in the ULS proceeding for major and minor amendments and modifications. Specifically, amendments to aural and TV BAS applications and modifications to aural and TV BAS licenses would be evaluated based on the rules defining a major change in 47 CFR 1.929(a) and (d) and remote pickup BAS applications would adhere to the rules set forth in 47 CFR 1.929(a) and (c)(4). In many cases, the rules adopted in the ULS Report and Order provide more flexibility than the current part 74 rules afford BAS licensees. The proposal described herein would implement rule changes that treat BAS applicants in a consistent manner with the treatment given other wireless services. We seek comment on all aspects of this proposal.

Emission Designators

64. 47 CFR 74.462 of the Commission's rules specifies authorized emissions for remote pickup BAS frequencies and frequency bands. We note that this section contains emission designators that no longer conform to current International Telecommunication Union (ITU) specifications or to those contained in subpart C of part 2 of the Commission's rules. Accordingly, we propose to update § 74.462 to replace all outdated emission designators with emission designators that conform to ITU specifications and part 2 rules. We seek comment on this proposal.

AMPTP Petition

65. AMPTP has petitioned the Commission to allow the use of wireless assist video devices (WAVDs) on a secondary, non-interference basis on unused TV channels in the upper VHF and the UHF bands. Video assist devices produce low resolution images that can be used by members of a production crew to make decisions with respect to content, lighting, and image framing.

Proposals

66. We believe that there is a sufficient basis for proposing rules to allow motion picture and TV producers to use WAVDs under certain conditions designed to minimize the interference risk to users of the band. This would be an appropriate expansion of the capabilities they are currently provided in part 74 of our rules, and provides them with the same capabilities as other part 74 licensees who can so operate under other existing rule sections. However, we are concerned that expanding the use of WAVDs not increase the interference risk to current or future authorized spectrum users. As noted, several commenters stated that the use of WAVDs would proliferate and be used by unauthorized users in a similar fashion to our experience with wireless microphones. We believe that there are significant differences between the cost of wireless microphones and WAVDs that will limit the use of these devices. Further, we do not believe that WAVDs are widely available. We request specific comments regarding the costs of WAVDs and whether these costs will limit their use. We also seek comment on the availability of these devices. Are they widely available to the general public? Additionally, we request comments on how the FCC can restrict the use of WAVDs by authorized users.

67. It appears that WAVDs cannot be easily accommodated in or are not suitable to other bands. In addition, we believe that these devices would be beneficial in keeping film and TV production costs down and allowing needed mobility and increased safety during filming. Therefore, we propose to amend the Commission's rules in part 74 to authorize motion picture and TV producers as well as TV BAS license holders to use VHF-TV and UHF-TV spectrum for WAVDs under conditions as set forth below. We propose to add the rules for these devices in a new 47 CFR 74.870 in part 74, subpart H, Low Power Auxiliary Stations. WAVDs would be subject to complying with all rules in subpart H, except where such requirements differ from those described below.

Eligibility, Status, and Licensing

68. We propose that motion picture and television producers, as defined in 47 CFR 74.801, be eligible to operate WAVDs. These entities are currently eligible to hold Low Power Auxiliary Station licenses. Our proposal, therefore, would extend to all entities eligible to hold a part 74 license, the opportunity to use WAVDs. We also propose to limit the use of WAVDs to production facilities or locations for use in producing material being filmed or taped for later showing on television broadcast stations. Thus, WAVDs could not be used for ENG operations or to assist with the production of live events. Additionally, we propose that WAVDs be excluded from operating under the rules for short-term operation used by other part 74 licensees. These restrictions are intended to minimize the possibility for interference similar to what parts 73 and 74 licensees have experienced from other co-channel operations in the vicinity of their operations, such as TV BAS and wireless microphones.

69. To further reduce the interference potential of these devices, we propose that WAVDs be authorized on a non-interference basis. Thus, WAVDs could not cause harmful interference to any existing or future allocated services operating in accordance with the Table of Allocations in part 2 of the Commission's rules, and WAVD users would be responsible for correcting any instance of harmful interference using any means necessary, up to and including shutting down the transmitter. We do not, however, propose to change the existing allocation of this spectrum for the broadcasting service (and land mobile in the 470-512 MHz band). This proposal is consistent with the treatment of wireless microphones operating on the same spectrum.

70. We propose to require that WAVD users obtain a license from the Commission prior to operation. Specifically, we propose that applicants use FCC Form 601 to apply for an WAVD license. As with wireless microphones, applicants would file FCC Form 601 Main Form and Schedule H—Technical Data Schedule for the Private Land Mobile and Land Mobile Broadcast Auxiliary Radio Services (parts 90 and 74). We propose that, similar to other BAS licensees, the license term for a WAVD license be concurrent with the normal licensing period for TV broadcast stations located in the same area of operation. A WAVD licensee would not be geographically limited, subject only to the channel separation rules we would adopt. These licenses are normally issued for a period of eight years with the expiration date determined by the area of the country in which the station operates. For applicants that propose to operate at various sites either regionally or nationally, the license period would be determined by the location of the applicant as indicated on FCC Form 601. Further, we propose that a WAVD licensee be authorized to use any authorized frequency and to operate on as many frequencies simultaneously as necessary, subject to the limitations and the notification requirements described below. Finally, because of the limited eligibility we propose for WAVDs and the nature of their use, we propose that WAVD licenses be non-assignable and non-transferable. We request comment on all aspects of these proposals concerning eligibility, status and licensing.

Authorized Frequencies

71. We propose to allow WAVDs to operate on unused television broadcast frequencies, subject to certain conditions. Specifically, we propose that WAVDs be authorized to use the 180-210 MHz band (corresponding to VHF-TV channels 8-12) and the 470-608 MHz and 614-698 MHz bands (corresponding to UHF-TV channels 14-36 and 38-51). We believe that WAVDs can effectively operate on this spectrum on a non-interference basis.

72. We are not proposing to allow WAVDs in the 174-180 MHz and 210-216 MHz bands (TV channels 7 and 13) because these bands are adjacent to bands which accommodate the Low Power Radio Service (LPRS), which supports auditory assistance devices and health care aids that operate pursuant to 47 CFR 90.265 of our rules. Because there are a large number of channels available, these restrictions should not impair the utility of this new service. We note that the nomadic nature of LPRS and WAVD operations could make it difficult to prevent interference between these services. In addition, by not allowing WAVDs to operate on these channels, we also would protect from interference the Navy's SPASUR radar system, which operates in the 216.88-217.08 MHz band.

73. We propose to specifically exclude WAVDs from using land mobile radio channels, in the 470-512 MHz band (TV channels 14-20) in cities where such use is authorized by the rules. Additionally, we propose to restrict the use of WAVDs on channels adjacent to public safety channels in those cities. Therefore, all TV channels listed in 47 CFR 90.303 of our rules will be excluded from WAVD use at the locations listed in that rule. In addition, we propose that 482-488 MHz (TV channel 16), which New York City public safety users are using under a waiver, also be excluded from WAVD usage in that area. Another exclusion we propose is 476-494 MHz (TV channels 15-17) in the Gulf of Mexico, which is used by the Private Land Mobile Radio Service and for communication links in the Offshore Radiotelephone Service (ORS) under part 22 of our rules. Finally, we propose to exclude 488-494 MHz (TV channel 17) in Hawaii, which is used for common carrier control and repeater stations for point-to-point inter-island communications.

74. We also propose that WAVDs be excluded on a nationwide basis from operating in the 608-614 MHz band (TV channel 37) to protect radio astronomy operations. This proposal is in accordance with the Table of Allocations in part 2 of the Commission's rules which specifies that no stations will be authorized to transmit in that band. We also note that the Commission has recently authorized the use of medical telemetry in the 608-614 MHz band and this exclusion will protect those operations. Finally, we propose that WAVDs not be allowed to use channels above 698 MHz (channel 51) in the UHF-TV band. This proposal recognizes that part of the TV band above channel 51 has been and more will be reallocated to uses other than broadcasting. We seek comment on all aspects of these proposals on authorized frequencies.

Technical and Operational Requirements

75. In addressing technical and operational requirements for WAVDs, our proposals are designed to protect other users of the TV bands. We propose to limit the ERP of WAVDs to 250 milliwatts. This should provide adequate power for reliable transmissions up to 300 meters. Additionally, the lower ERP limit will provide more protection to other users of the TV band. To further minimize the potential for harmful interference by preventing the ability of users to use high gain antennas, we also propose to require that the transmitting devices contain a permanently attached antenna. We also seek comment on whether an alternative limit on power levels may be more appropriate. We seek answers to the following:

• What signal strength is necessary at the WAVD receiver to ensure reliable use?

• Is 250 milliwatts ERP adequate to ensure this signal strength at 300 meters or is a different ERP more appropriate?

• What assumptions are being used in making this calculation?

• How is the signal strength affected by antenna height?

• Should the rules specify a relationship between antenna height and power?

76. AMPTP asks that we allow WAVDs to operate with a bandwidth up to 6 megahertz to provide sufficient operating flexibility. Because they state that these devices will transmit audio, video, and time information either in analog or digital format, this appears to be a reasonable request. Further, we believe that producers can benefit from low equipment costs by taking advantage of economies of scale by using existing NTSC or newer DTV equipment. Accordingly, we propose to allow WAVDs to operate with a bandwidth up to 6 MHz, limited to transmitting on a single TV channel (i.e., WAVD transmissions may not overlap the TV channel edge). To ensure compliance with this requirement, we propose that WAVDs be subject to the same emission limitations that we are proposing for other TV BAS transmitters.

77. We also propose that all WAVD transmitters be authorized for use under the certification procedures of part 2 of our rules. This third-party review process will insure that these transmitters are designed to the parameters ultimately adopted. We seek comment on whether we should authorize these low power devices under declaration of conformity (DOC) procedures. The DOC process would allow manufacturers to declare compliance with our requirements, provided the equipment is tested for compliance using an accredited laboratory and is properly labeled. Because these are new devices, we do not believe that use of verification procedures, in which no independent third-party testing is required, is appropriate.

78. AMPTP proposed that WAVDs be authorized to operate with a separation distance of at least 120 kilometers from an authorized user of the TV band to avoid interference. This distance corresponds to the Grade B contour of a TV station operating in the upper VHF-TV band with maximum power. We note that wireless microphones, which may use up to 50 milliwatts and 250 milliwatts output power in the VHF-TV and UHF-TV bands, respectively, maintain distances of up to 129 kilometers from TV broadcasting stations, a distance slightly larger than the Grade B contour. Although the ERP we are proposing for WAVDs is higher than that authorized for wireless microphones operating in the upper VHF TV band, we also have proposed to allow WAVDs to operate with a bandwidth of 6 megahertz compared to the maximum 200 kilohertz authorized for wireless microphones. Therefore, the energy radiated from a WAVD will be spread over a much larger bandwidth than that used for wireless microphones resulting in less signal energy in any given portion of the bandwidth. This difference coupled with the ability of wireless microphones to avoid sensitive portions of the TV signal due to their smaller bandwidth should offset the difference in power levels between the two devices. Thus, similar to the rules for wireless microphones, we propose that WAVDs maintain 129 kilometers separation from TV broadcasting stations, including low power TV stations and translator stations operating on the same frequency. To protect TV stations, we believe that this distance is more appropriate than the 120 kilometer distance proposed by AMPTP because it requires that these devices operate completely outside the Grade B contour, whereas the 120 kilometer distance would allow WAVDs to be located at the edge of the Grade B contour with the potential for generating signals into it. We seek comment on whether this distance is appropriate to protect both NTSC and DTV signals from harmful interference. We will not require a minimum separation distance from WAVDs to other TV BAS operations on the TV channels. We believe that the directional nature of the TV BAS operations, coupled with our proposals for notification prior to operation, are adequate to protect TV BAS operations.

79. To protect land mobile stations operating in the 470-512 MHz band, we have proposed to require WAVDs to maintain at least 6 MHz frequency separation when operating in the same area. To further define this protection criteria we propose to require WAVDs to maintain a separation of at least 200 kilometers from the coordinates listed in 47 CFR 90.303 when operating co-channel (i.e., at least 52 kilometers away from the nearest mobile station). We note that this proposed separation distance between WAVDs and land mobile stations is less than that proposed for TV stations. However, we believe that land mobile receivers do not require the same level of protection as television receivers because land mobile receivers are more robust than television receivers (i.e., they operate with up to 25 kilohertz bandwidths as opposed to 6 megahertz for TV and therefore allow less energy to pass through the receiver).

80. For operations by the ORS and PLMRS in the Gulf of Mexico in the 476-494 MHz band, the Commission's rules stipulate various zones in which each allocated TV channel can be used. ORS and PLMRS stations are mostly used for point-to-point or point-to-multipoint operations, which do not require the same level of protection as mobile services due to the directional nature of fixed transmissions. Communications with mobile stations in the Gulf of Mexico are generally limited to stations within the gulf (e.g., stations on boats or aircraft) or to stations on the shore. Therefore, we propose to exclude WAVDs from operating within 52 km of the Gulf of Mexico in the 476-494 MHz band. This would provide the same level of protection as we proposed to provide to mobile stations operating within U.S. cities. We also propose to exclude WAVDs from operating within 52 km of Hawaii in the 488-494 MHz band. We seek comment on whether these proposals are sufficient to protect land mobile stations or conversely whether they are overly restrictive such that they inhibit the use of WAVDs. Commenters who believe that our proposals are overly restrictive should address the level of protection necessary to protect land mobile operations.

81. The proposals set forth are designed to maximize the number of channels and areas in which WAVDs can operate while at the same time protecting broadcasters and land mobile users from harmful interference. Subject to the proposed limitations, WAVDs would have use of VHF-TV channels 8-12 and UHF-TV channels 22-36 and 38-51 nationwide. For UHF-TV channels 14-21 our proposals would prohibit WAVD use on certain channels in and around a limited number of cities, but allow their use across the rest of the United States. As an alternative, to protect land mobile users, we could prohibit WAVDs from operating on UHF-TV channels 14-21 altogether. Such an option would limit the number of available operating channels for WAVDs at most locations nationwide. However, it would also create a simpler regulatory framework. We seek comment on this option. Specifically, what is the effect of prohibiting the use of WAVDs on UHF-TV channels 14-21 on their ability to find vacant channels on which to operate in various areas?

82. We propose that prior to operating at a specific location, a WAVD licensee must notify the local broadcast coordinator in the area where they wish to operate. In this regard, we note that SBE maintains a list of local coordinators on their web site at http://www.sbe.org. Alternatively, in areas where there may not be a local coordinator, we propose that a WAVD licensee must notify any TV station within 161 kilometers (100 miles) operating on channels adjacent to the WAVD. We believe that notification rather than full coordination is sufficient for these devices due to their low ERP and limited operating range. We are inclined to agree with AMPTP that the requirements adopted in WT Docket No. 99-168 can be used as the basis for our proposal. We propose slight modifications to the procedures adopted in that proceeding to reflect differences in the services (i.e., WAVDs need notification for temporary use at specific locations with the notification being accomplished by a local independent coordinator, as opposed to land mobile coordination which is usually done for long-term or permanent use by a national level coordinator). Specifically, we propose that each notification include the proposed frequency or frequencies, location, antenna height, type of emission, effective radiated power, intended dates of operation, and licensee contact information. Because we have proposed to limit use of WAVDs to scheduled productions, we believe that it is reasonable to require that these notifications be made at least ten business days prior to the date that WAVD use is required. We believe that this provides adequate time for the coordinator to respond to the applicant. We further propose that failure of a coordinator to respond to such a notification will be interpreted as an approval. Applicants should be aware that we are proposing that coordinators have the full ten days to respond to a coordination request and should plan to initiate notification as far in advance as possible to avoid production delays. We believe that our proposal strikes a reasonable balance between the requirements of producers and the needs of the coordinator to study the notification and provide comments as necessary. We propose that the coordinator's recommendation regarding the specific operation of a particular WAVD—whether it can operate as proposed or with suggested modifications to operating parameters—is to be followed by the WAVD licensee. Of course, licensees may appeal to the Commission if they disagree with a coordinator. We propose that in these instances, the licensee bear the burden of proof in overturning the coordinator's recommendation. The requirements proposed herein would ensure that WAVDs operate in a manner that will minimize the potential for harmful interference. We decline to propose specific technical guidelines in order to provide coordinators a large degree of latitude to tailor requirements to specific local operating environments. Our experience has been that coordinators have performed their duties with a high degree of professionalism and integrity and we believe that the coordinators will continue to act in this manner. We seek comment on our notification proposals. Specifically, do we need to require that additional information be provided? Is the ten-day period for a coordinator to respond to a request enough time or too much time? Should specific technical criteria, such as C/I ratios, be adopted?

83. Additionally, we propose that WAVD licensees be subject to the station identification requirements of 47 CFR 74.882, which require that stations transmit station identification at the beginning and end of each period of operation at a single location. As with wireless microphones, we believe that even with the low power levels that WAVDs will use, such a requirement is necessary so that if any interference is experienced, it can readily be traced back to its source and can be mitigated. We seek comment on these additional aspects of proposed technical operational requirements for WAVDs.

84. Finally, to ensure that users understand the proper operation and requirements of WAVDs, we propose that manufacturers include certain information in the product literature that is included with the device. Section 302 of the Communications Act provides the Commission with authority to make reasonable regulations governing the interference potential of devices which emit radio frequency energy. For WAVDs, we propose that the product literature supplied to the user include the statements explaining that an FCC license is needed prior to operating, explaining that operation may not cause interference to TV reception, and identifying the intended uses of the device. In order to provide flexibility to manufacturers, we do not propose specific language or placement of this information, so long as it is included with the device. We believe that providing this information with the product literature will minimize the potential for these devices to proliferate to unauthorized users and cause interference to TV. We seek comment on this proposal. Commenters should address whether the required information is sufficient or if more or less information should be required.

Initial Regulatory Flexibility Analysis

85. As required by the Regulatory Flexibility Act (RFA),¹ the Commission has prepared this present Initial Regulatory Flexibility Analysis (IRFA) of the possible significant economic impact on small entities by the policies and rules proposed in the Notice of Proposed Rule Making (NPRM). Written public comments are requested on this IRFA and must be filed by the deadlines for comments on the Notice of Proposed Rule Making. The Commission will send a copy of the Notice of Proposed Rule Making, including this IRFA, to the Chief Counsel for Advocacy of the Small Business Administration.² In addition, the Notice of Proposed Rule Making and IRFA (or summaries thereof) will be published in the Federal Register.³

¹ See 5 U.S.C. 603. The RFA, see 5 U.S.C. 601 et. seq., has been amended by the Contract With America Advancement Act of 1996, Public Law 104-121, 110 Stat. 847 (1996) (CWAAA). Tittle II of the CWAAA is the Small Business Regulatory Enforcement Fairness Act of 1996 (SBREFA).

² 5 U.S.C. 603(a).

³ Id.

A. Need for, and Objectives of, the Proposed Rules

86. The Notice or Proposed Rule Making presents a significant update to the Broadcast Auxiliary Service (BAS). Many of the proposals are intended to ease the transition from current analog equipment to the digital equipment that will be necessary to support digital TV. Additionally, this NPRM proposes to implement changes to streamline the licensing process and make the BAS licensing rules consistent with those used in the rest of the wireless services. These proposals pave the way for BAS to take full advantage of the Commission's Universal Licensing. This NPRM also seeks to implement changes that would make the rules consistent among similar services, such as BAS, fixed service microwave, and Cable Television Relay Service (CARS). Finally, the NPRM proposes to allow motion picture and television producers access to certain VHF and UHF TV channels for wireless video assist devices (WAVDs). WAVDs increase the safety of production sets and at the same time enable these groups to save money on production costs.

B. Legal Basis

87. This action is authorized under Sections 1, 4(i), 302, 303(f) and (r), 332, and 337 of the Communications Act of 1934, as amended, 47 U.S.C. 1, 4(i), 154(i), 302, 303(f) and (r), 332, 337.

C. Description and Estimate of the Number of Small Entities to Which the Proposed Rule Will Apply

88. The RFA directs agencies to provide a description of and, where feasible, an estimate of the number of small entities that may be affected by the proposed rules, if adopted.⁴ The RFA generally defines the term “small entity” as having the same meaning as the terms “small business,” “small organization,” and “small governmental jurisdiction.” In addition, the term “small business” has the same meaning as the term “small business concern” under section 3 of the Small Business Act, unless the Commission has developed one or more definitions that are appropriate for its activities.⁵ Under the Small business Act, a “small business concern” is one that: (1) Is independently owned and operated; (2) is not dominant in its field of operation; and (3) satisfies any additional criteria established by the Small Business Administration (SBA).⁶

⁴ Id. at 603(b)(3).

⁵ Id. at 601(3).

⁶ Id. at 632.

89. A small organization is generally “any not-for-profit enterprise which is independently owned and operated and is not dominant in its field.” ⁷ Nationwide, as of 1992, there were approximately 275,801 small organizations.⁸ The definition of “small governmental entity” is one with populations of fewer than 50,000.⁹ There are approximately 85,006 governmental entities in the nation.¹⁰ This number includes such entities as states, counties, cities, utility districts and school districts. There are no figures available on what portion of this number have populations of fewer than 50,000. However, this number includes 38,978 counties, cities and towns, and of those, 37,556, or ninety-six percent, have populations of fewer than 50,000.¹¹ The Census Bureau estimates that this ratio is approximately accurate for all governmental entities. Thus, of the 85,006 governmental entities, we estimate that ninety-six percent, or about 81,600, are small entities that may be affected by our rules.

⁷ Id. at 601(4).

⁸ Department of Commerce, U.S. Bureau of the Census, 1992 Economic Census, Table 6 (special tabulation of data under contract to Office of Advocacy of the U.S. Small Business Administration).

⁹ 5 U.S.C. 601(5).

¹⁰ 1992 Census of Governments, U.S. Bureau of the Census, U.S. Department of Commerce.

¹¹ Id.

90. The proposals in this NPRM would affect licensees of BAS (remote pickup, aural, and television), CARS, and fixed microwave services. Additionally, they affect manufacturers of equipment that supports the BAS. BAS involves a variety of transmitters, generally used to relay broadcast programming to the public (through translator and booster stations) or within the program distribution chain (from a remote news gathering unit to the studio or from the studio to the transmitter). CARS includes transmitters generally used to relay cable programming within cable television system distribution systems. The Commission has not developed a definition of small entities applicable to these licensees. Therefore, the applicable definitions of small entities for each of these services under the Small Business Administration (SBA) rules is as follows: (1) For TV BAS, we will use standard industrial classification (SIC) code 4833 (Television Broadcasting Stations) which are classified as small businesses if they have annual revenues of no more than $10.5 million; ¹² (2) For Aural BAS, we will use SIC code 4832 (Radio Broadcasting Stations) which are classified as small businesses if they have revenue of no more than $5 million; ¹³ (3) For Remote pickup BAS we will use SIC code 4833 when used by a TV station or 4832 when used by a radio station. The definition of small business for these codes has already been listed; (4) For CARS, we will use SIC code 4841 (Cable and Other Pay Television Services) which are classified as small businesses if they have annual revenue of no more than $11 million; ¹⁴ (5) For fixed microwave, we will use SIC code 4812 (Radiotelephone Communications) which are classified as small businesses if they employ no more than 1,500 people; ¹⁵ (6) For BAS equipment manufacturers, we will use SIC code 3663 (Radio and Television Broadcasting and Communications Equipment) which are classified as small businesses if they employ no more than 750 people.¹⁶

¹² 13 CFR 121.201, SIC Code 4833 (NAICS code 51312).

¹³ Id., SIC Code 4832 (NAICS code 513112, Radio Stations).

¹⁴ Id., SIC Code 4841 (NAICS code 51322, Cable and Other Program Distribution).

¹⁵ Id., SIC Code 4812 (NAICS code 513322, Cellular and Other Wireless Telecommunications).

¹⁶ Id., SIC Code 3663 (NAICS code 33422).

91. The 1992 Census of Transportation, Communications, and Utilities, conducted by the Bureau of the Census, which is the most recent information available, shows that 715 TV broadcasting firms out of a total of 885 had less than $10 million annual revenue,¹⁷ 4748 radio broadcasting firms ¹⁸ out of a total of 4932 had less than $5 million annual revenue,¹⁹ between 1401 and 1471 cable television firms out of a total of 1573 had less than $11 million annual revenue,²⁰ and more than 1166 radiotelephone firms out of a total of 1178 had fewer than 1,500 employees.²¹ Similarly, the 1992 Census of Manufactures shows that between 908 and 925 out of 948 radio and television communications equipment manufacturing establishments ²² had fewer than 750 employees.²³ Any of these small businesses can potentially be affected by the proposals of the NPRM. We seek comment on this analysis. In providing such comment, commenters are requested to provide information regarding how many total and small business entities would be affected.

¹⁷ See U.S. Bureau of the Census, U.S. Department of Commerce, 1992 Census of Transportation, Communications, and Utilities, UC92-S-1, Subject Series, Establishment and Firm Size, Table 4, Revenue Size of Firms: 1992, SIC Code 4833 (issued May 1995) (1992 Census of Communications).

¹⁸ A firm is a business organization or entity consisting of one domestic establishment (location) or more under common ownership or control. All establishments of subsidiary firms are included as part of the owning or controlling firm. For the economic census, the terms “firm” and “company” are synonymous.

¹⁹ See 1992 Census of Communications, SIC Code 4832.

²⁰ Id., SIC Code 4841. The number of small businesses is characterized as a range because the threshold annual revenue determining a small business in this category is $11 million, but the relevant census data is reported as annual revenue in the $10 million to $24,999,999 range.

²¹ Id., Table 5, Employment Size of Firms: 1992, SIC Code 4812 (issued May 1995). The number of small businesses is not given as a definite number because the threshold number of employees determining a small business in this category is 1,500, but the relevant census data is only reported as firms with 1,000 or more employees.

²² An establishment is defined as a single physical location where manufacturing is performed. A company, on the other hand, is defined as a business organization consisting of one establishment or more under common ownership or control.

²³ U.S. Bureau of the Census, U.S. Department of Commerce, 1992 Census of Manufactures, MC92-I-36D, Industry Series, Communications Equipment, Including Radio and Television, Table 4, Industry Statistics by Employment Size of Establishment: 1992, SIC Code 3663 (issued Mar. 1995).

D. Description of Projected Reporting, Recordkeeping, and Other Compliance Requirements

92. Under the proposals contained in this NPRM, there are changes to reporting, recordkeeping, and other compliance requirements. In many cases, these changes streamline the existing licensing process or provide additional flexibility to licensees and applicants. Many of the proposed changes are related to the use of the Universal Licensing System (ULS) by BAS applicants and licensees. As explained in the NPRM, applicants for BAS stations must apply through the Wireless Telecommunications Bureau using the ULS, which was adopted by Report and Order in 1998.²⁴ To comply with this system, our proposals for BAS are consistent with the decisions reached in that Report and Order. Accordingly, our proposals include eliminating requests made by letter if there is a standard application form which can be used instead,²⁵ modifying the rules defining major and minor changes to those used for fixed microwave systems,²⁶ and eliminating the need to report transmitter output power and requiring that all stations comply with limits on effective isotropic radiated power.²⁷ We also propose to change the period of construction for a BAS station from the currently used three years to eighteen months, consistent with the period used for fixed microwave stations.²⁸

²⁴ See para. 75 in the NPRM.

²⁵ See para. 78 in the NPRM.

²⁶ See para. 79 in the NPRM

²⁷ See para. 18 in the NPRM.

²⁸ See para. 76 in the NPRM.

93. Additionally, we propose to conform some of the rules that affect frequency bands that are shared among BAS licensees (part 74), CARS licensees (part 78), and fixed microwave licensees (part 101). Here, we propose to update the rules that protect interference to geostationary satellites from receiving harmful interference from fixed stations to those currently listed in the ITU International Radio Regulations. The effect of this update is to expand the number of frequency bands to which these rules apply.²⁹ We also propose to adopt for BAS equipment, emission limitations that are consistent with those already being used for fixed microwave stations.³⁰ We also propose that all BAS applicants for stations operating above 944 MHz, comply with the same frequency coordination guidelines in place for fixed microwave stations.³¹

²⁹ See para. 35 in the NPRM.

³⁰ See para. 25 in the NPRM.

³¹ See para. 37 in the NPRM.

94. Further changes entail providing technical guidelines for TV studio-to-transmitter links and TV relay stations that operate on UHF-TV channels. These guidelines have always been imposed, but never codified.³² Also, with respect to BAS Remote Pickup stations, we propose to alter their channel plan to be consistent with the same channel spacing requirements as are used for Private Land Mobile Radio stations in Part 90 of our rules.³³ Finally, we propose to allow a new type of device to operate on certain VHF and UHF TV channels, wireless assist video devices. Because they are new, we propose rules for the licensing and use of these devices.³⁴ We request comment on how these requirements can be modified to reduce the burdens on small entities and still meet the objectives of this proceeding.

³² See para. 55 in the NPRM.

³³ See para. 66 in the NPRM.

³⁴ See paras 93-107 in the NPRM.

E. Steps Taken To Minimize Significant Economic Impact on Small Entities, and Significant Alternatives Considered

95. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.³⁵

³⁵ 5 U.S.C. 603(c).

96. We have proposed to reduce burdens wherever possible. Our proposals regarding the BAS would reduce burdens on small entities. First, we have proposed to allow aural and TV BAS licensees to use digital modulation techniques in all of their allocated frequency bands. Currently, they can only use these techniques in a few bands and must file waiver requests and requests for special temporary authority (STA) to transmit digital signals in other bands. Our proposals would eliminate the need for these waivers and STAs, thus saving businesses the time it takes to prepare these requests and their associated filing fees.³⁶ Second, we have proposed to alter the equation used to determine the allowable EIRP for short path lengths. Under our proposal, there would no longer be a large drop-off in allowable EIRP when the path length of a fixed station was slightly shorter than the minimum necessary for maximum power. The effect of this would be to provide more flexibility in the way small entities design their systems. Because they would be able to use fewer sites, this would have the effect would be a reduction in the cost of a system.³⁷ Third, we have proposed to allow automatic transmit power control (ATPC). ATPC would benefit small entities by reducing outages to digital receivers and expanding battery life. Both of these effects benefit small businesses by making their systems more reliable.³⁸

³⁶ See para. 9 in the NPRM.

³⁷ See para. 13 in the NPRM.

³⁸ See para. 33 in the NPRM.

97. Many of our proposed rule amendments and their benefits, stem from the use of the ULS for application filing. This system, by providing for electronic filing on standardized forms benefits small entities in several ways. Applicants can submit applications to the Commission as soon as they have the necessary information on-hand. And they can get instant feedback as to the correctness of that application; ULS will not accept the application for filing unless it is correct on its face. If there are errors, ULS will provide error messages so that the application can be corrected and resubmitted. Also, the system makes extensive use of electronic processing, so that many of the tasks that were done by hand are now done by the computer. The overall effect is that application are processed faster and licenses are issued sooner, thus allowing small entities to begin providing service in a more timely manner.³⁹

³⁹ See Section III-B of NPRM.

98. We have proposed rules in the NPRM that would conform rules for similar services that share spectrum. These are TV BAS, CARS, and the fixed microwave service. As a whole, these proposals reduce burdens to small entities because many of these entities have licenses in each of these rule parts, but must currently contend with different rules in each part. Thus, small entities will benefit because they will, in many instances, be able to comply with a common set of rules for their systems, which operate in any of the named services.⁴⁰

⁴⁰ See Section III-C of NPRM.

99. Additionally, we have proposed many other changes that will benefit small entities. We have proposed to require that BAS systems prior coordinate their frequency use. Such a requirement will ensure that systems begin operating in a manner that minimizes the potential of causing interference. This protects the new system from possibly being shut down due to causing interference and protects the existing system from suffering a service disruption from receiving interference. Both of these results will benefit small entities operating in the BAS service.⁴¹ Along with the frequency coordination requirement, we have proposed to extend the ability to operate under temporary conditional authority to all BAS frequency bands. This would benefit small entities by allowing them to begin operating sooner.⁴² Further, we have proposed to extend the reach of the short-term operation rule to all entities eligible for a BAS license. This benefits small entities because many would not need to obtain additional licenses from the Commission to provide limited service a few times a year in areas in which they do not traditionally operate. Such a change would save small entities the time and money that they would otherwise expend obtaining a license.⁴³ Another proposed change entails us laying out the technical requirements for operating TV STLs or TV relay stations on UHF-TV channels. By doing this, applicants will know before applying exactly the requirements they must meet in order to obtain a license, thereby reducing the number or applications that must be returned by the Commission. Thus, small entities will benefit by not having to respond to returned applications.⁴⁴ We have also proposed to alter the channel plan for remote pickup BAS to conform to the channel plan adopted for PLMR services. Unless the same technical criteria are used for both services, different radios must be developed. Thus, our proposal would benefit small entities by keeping equipment costs down.⁴⁵ Finally, we have proposed to allow motion picture and television producers to operate a new type of device, wireless assist video devices, on certain unused VHF and UHF TV channels. This will benefit small entities by providing a more cost effective means for producers to monitor multiple camera angles when producing program material.⁴⁶

⁴¹ See para. 37 in the NPRM.

⁴² See para. 46 in the NPRM.

⁴³ See para. 50 in the NPRM.

⁴⁴ See para. 55 in the NPRM.

⁴⁵ See para. 62 in the NPRM.

⁴⁶ See paras. 90-107 in the NPRM.

100. The regulatory burdens we have retained, such as filing applications on appropriate forms, are necessary to ensure that the public receives the benefits of new and existing services in a prompt and efficient manner. We also considered revising the burden of frequency coordination, but found that this alternative would unnecessarily increase the potential of harmful interference.⁴⁷ Additionally, under the frequency coordination procedures proposed, entities may self coordinate rather than paying a frequency coordinator.⁴⁸ We will continue to examine alternatives in the further with the objectives of eliminating unnecessary regulations and minimizing significant economic impact on small entities. We seek comment on significant alternatives commenters believe we should adopt.

⁴⁷ See paras. 37-40 in the NPRM

⁴⁸ 47 CFR 101.103(d).

F. Federal Rules That May Duplicate, Overlap, or Conflict With the Proposed Rules

101. None.

Ordering Clauses

102. Pursuant to sections 1, 4(i), 302, 303(f) and (r), 332 and 337 of the Communications Act of 1934, as amended, 47 U.S.C. 1, 4(i), 154(i), 302, 303(f), and (r), 332, 337, this Notice of Proposed Rulemaking is hereby Adopted.

103. The Commission's Consumer Information Bureau, Reference Information Center, shall send a copy of this NPRM, including the Initial Regulatory Flexibility Analysis to the Chief Counsel for Advocacy of the Small Business Administration.

List of Subjects

47 CFR Part 1

Adminstrative practice and procedure, Radio, Television.

47 CFR Part 2

Communications equipment, Radio.

47 CFR Part 73

Communications equipment, Radio, Reporting and recordkeeping requirements, Television.

47 CFR Part 74

Communications equipment, Radio, Reporting and recordkeeping requirements, Television.

47 CFR Part 78

Cable television, Communications equipment, Radio, Reporting and recordkeeping requirements.

Federal Communications Commission.
Magalie Roman Salas,
Secretary.

Proposed Rules Change

For the reasons discussed in the preamble, the Federal Communications Commission proposes to amend 47 CFR Parts 1, 2, 73, 74, and 78 as follows:

PART 1—PRACTICE AND PROCEDURE

1. The authority citation for part 1 continues to read as follows:

Authority: 47 U.S.C. 151, 154(i), 154(j), 155, 225, 303(r), 309 and 325(e).

2. Section 1.901 is revised to read as follows:

§ 1.901 Basis and purpose.

The rules in this subpart are issued pursuant to the Communications Act of 1934, as amended, 47 U.S.C 151 et seq. The purpose of the rules in this subpart is to establish the requirements and conditions under which entities may be licensed in the Wireless Radio Services as described in this part and in parts 13, 20, 22, 24, 26, 27, 74, 80, 87, 90, 95, 97 and 101 of this chapter.

3. Section 1.902 is revised to read as follows:

§ 1.902 Scope.

In case of any conflict between the rules set forth in this subpart and the rules set forth in parts 13, 20, 22, 24, 26, 27, 74, 80, 87, 90, 95, 97, and 101 of Title 47, Chapter I of the Code of Federal Regulations, the rules in this part 1 shall govern.

4. Section 1.929 is amended by revising the introductory text of paragraphs (c)(4) and (d) to read as follows:

§ 1.929 Classification of filings as major or minor.

* * * * *

(c) * * *

(4) In the Private Land Mobile Radio Services (PLMRS), the remote pickup broadcast auxiliary service, and GMRS systems licensed to non-individuals:

* * * * *

(d) In the microwave, aural broadcast auxiliary, and television broadcast auxiliary services:

* * * * *

PART 2—FREQUENCY ALLOCATIONS AND RADIO TREATY MATTERS; GENERAL RULES AND REGULATIONS

5. The authority citation for part 2 continues to read as follows:

Authority: 47 U.S.C. 154, 302a, 303, and 336, unless otherwise noted.

6. Section 2.106 is amended as follows:

a. Revise pages 25, 26, 37, and 38 of the Table.

b. In the list of United States footnotes, revise footnote US11.

c. In the list of non-Federal Government footnotes, revise footnote NG115.

The revisions read as follows:

§ 2.106 Table of Frequency Allocations.

* * * * *

BILLING CODE 6712-01-P

BILLING CODE 6712-01-C

* * * * *

United States (US) Footnotes

* * * * *

US11 The use of the frequencies 166.25 and 170.15 MHz may be authorized to non-Government remote pickup broadcast base and land mobile stations and to non-Government base, fixed and land mobile stations in the public safety radio services (the sum of the bandwidth of emission and tolerance is not to exceed 12.5 kHz, except that authorizations in existence as of January 1, 2002, using 25 kHz bandwidth are permitted to continue in operation until January 1, 2005) in the lower 48 contiguous States only, except within the area bounded on the west by the Mississippi River, on the north by the parallel of latitude 37° 30′ N., and on the east and south by that arc of the circle with center at Springfield, Illinois, and radius equal to the airline distance between Springfield, Illinois, and Montgomery, Alabama, subtended between the foregoing west and north boundaries, on the condition that harmful interference shall not be caused to Government stations present or future in the Government band 162'174 MHz. The use of these frequencies by remote pickup broadcast stations shall not be authorized for locations within 150 miles of New York City; and use of these frequencies by the public safety radio services will not be authorized except for locations within 150 miles of New York City. As an exception to the secondary status of all other non-Government stations operating on the frequencies 166.25 and 170.15 MHz, non-Government remote pickup broadcast base stations operating as an integral part of the Emergency Alert System shall have primary status.

* * * * *

Non-Federal Government (NG) Footnotes

* * * * *

NG115 In the bands 54-72 MHz, 76-88 MHz, 174-216 MHz, 470-608 MHz, and 614-806 MHz, wireless microphones and wireless assist video devices may be authorized on a non-interference basis, subject to the terms and conditions set forth in 47 CFR part 74, subpart H.

* * * * *

PART 73—RADIO BROADCAST SERVICES

7. The authority citation for part 73 continues to read as follows:

Authority: 47 U.S.C. 154, 303, 334, and 336.

8. Section 73.3500 is amended by removing the entries for Forms 313 and 313-R from the table in paragraph (a) and adding entries for Forms 601 and 603 in numerical order to read as follows:

§ 73.3500 Application and report forms.

(a) * * *

Form No. | Title
* * * * *
601 | FCC Application for Wireless Telecommunications Bureau Radio Service Authorization.
603 | FCC Wireless Telecommunications Bureau Application for Assignments of Authorization and Transfers of Control.

* * * * *

§ 73.3533 [Amended]

9. Section 73.3533 is amended by removing and reserving paragraph (a)(3).

§ 73.3536 [Amended]

10. Section 73.3536 is amended by removing and reserving paragraph (b)(3).

11. Section 73.3598 is amended by revising paragraph (a) to read as follows:

§ 73.3598 Period of construction.

(a) Each original construction permit for the construction of a new TV, AM, FM or International Broadcast; low power TV; TV translator; TV booster; FM translator; or FM booster, or to make changes in such existing stations, shall specify a period of three years from the date of issuance of the original construction permit within which construction shall be completed and application for license filed.

* * * * *

PART 74—EXPERIMENTAL RADIO, AUXILIARY, SPECIAL BROADCAST AND OTHER PROGRAM DISTRIBUTIONAL SERVICES

12. The authority citation for part 74 continues to read as follows:

Authority: 47 U.S.C. 154, 303, 307, 336(f) and 554.

13. Section 74.5 is amended by redesignating paragraphs (a)(4) through (a)(6) as paragraphs (a)(5) through (a)(7), and adding new paragraphs (a)(4) and (f) to read as follows:

§ 74.5 Cross reference to rules in other parts.

* * * * *

(a) * * *

(4) Subpart F, “Wireless Telecommunications Services Applications and Proceedings”. (§§ 1.901 to 1.981).

* * * * *

(f) Part 101, “Fixed Microwave Services”.

14. Section 74.6 is added to read as follows:

§ 74.6 Licensing of broadcast auxiliary and low power auxiliary stations.

Applicants for and licensees of remote pickup broadcast stations, aural broadcast auxiliary stations, television broadcast auxiliary stations, and low power auxiliary stations authorized under subparts D, E, F, and H of this part are subject to the application and procedural rules for wireless telecommunications services contained in part 1, subpart F, of this chapter.

15. Section 74.15 is amended by revising paragraph (f) to read as follows:

§ 74.15 Station license period.

* * * * *

(f) Licenses held by broadcast network-entities under Subpart F of this part will ordinarily be issued for a period of 8 years running concurrently with the normal licensing period for broadcast stations located in the same area of operation. An application for renewal of license shall be filed in accordance with the provisions of § 1.949 of this chapter.

* * * * *

16. Section 74.24 is amended by revising the introductory text, paragraphs (a), (d) including the note (f), (g), (h)(1) and the last two sentences of paragraph (i), and by removing the Note following paragraph (h)(1) to read as follows:

§ 74.24 Short-term operation.

All classes of broadcast auxiliary stations provided for in subparts D, E, F and H of this part, except wireless video assist devices, may be operated on a short-term basis under the authority conveyed by a part 73 license or a broadcast auxiliary license without prior authorization from the FCC, subject to the following conditions:

(a) Licensees operating under this provision must be eligible to operate the particular class of broadcast auxiliary station.

* * * * *

(d) Short-term operation under this section shall not exceed 720 hours annually per frequency.

Note to Paragraph (d): Certain frequencies shared with other services which are normally available for permanent broadcast auxiliary station assignment may not be available for short-term operation. Refer to any note(s) which may be applicable to the use of a specific frequency prior to initiating operation.

* * * * *

(f) Stations operated pursuant to this section shall be identified by the transmission of the call sign of the associated part 73 broadcast station or broadcast auxiliary station.

(g) Prior to operating pursuant to the provisions of this section, licensees shall, for the intended location or area-of-operation, notify the appropriate frequency coordination committee or any licensee(s) assigned the use of the proposed operating frequency, concerning the particulars of the intended operation and shall provide the name and telephone number of a person who may be contacted in the event of interference. Except as provided further, this notification provision shall not apply where an unanticipated need for immediate short-term mobile station operation would render compliance with the provisions of this paragraph (g) impractical.

(1) A CARS licensee shall always be given advance notification prior to the commencement of short-term operation on or adjacent to an assigned frequency.

(2) The Commission may designate a frequency coordinator as the single point of contact under this section for advance coordination of major national and international events. Once designated, all short-term auxiliary broadcast use under this section must be coordinated in advance through the designated coordinator.

(i) Coordinators under this provision will not be designated unless the Commission receives a request to designate a coordinator.

(ii) The Commission will issue a Public Notice with information regarding the designation of such a coordinator.

(iii) All coordination must be done on a non-discriminatory basis.

(iv) All licensees must abide by the decision of the coordinator. The Commission will be the final arbiter of any disputes.

(3) An unanticipated need will never be deemed to exist for a scheduled event, such as a convention, sporting event, etc.

(h) * * *

(1) Use of broadcast auxiliary service frequencies below 470 MHz is limited to areas of the United States south of Line A or west of Line C unless the effective radiated power of the station is 5 watts or less. See § 1.928(e) of this chapter for a definition of Line A and Line C.

* * * * *

(i) * * * It shall simply be necessary for the licensee to contact the potentially affected agency and obtain advance approval for the proposed short-term operation. Where protection to FCC monitoring stations is concerned, approval for short-term operation may be given by the District Director of a Commission field facility.

* * * * *

17. Section 74.25 is added to read as follows:

§ 74.25 Temporary conditional operating authority.

An applicant for a new broadcast auxiliary radio service station or a modification of an existing station under subpart D, E, F, or H of this part may operate the proposed station during the pendency of its applications upon the filing of a properly completed formal application that complies with the rules for the particular class of station, provided that the following conditions are satisfied:

(a) Conditions applicable to all broadcast auxiliary stations. (1) Stations operated pursuant to this section shall be identified by the transmission of the call sign of the associated part 73 broadcast station, if one exists, or the prefix “WT” followed by the applicant's local business telephone number for broadcast or cable network entities.

(2) The antenna structure(s) has been previously studied by the Federal Aviation Administration and determined to pose no hazard to aviation safety as required by subpart B of part 17 of this chapter; or the antenna or tower structure does not exceed 6.1 meters above ground level or above an existing man-made structure (other than an antenna structure), if the antenna or tower has not been previously studied by the Federal Aviation Administration and cleared by the FCC.

(3) The grant of the application(s) does not require a waiver of the Commission's rules in this chapter.

(4) The applicant has determined that the facility(ies) will not significantly affect the environment as defined in § 1.1307 of this chapter.

(5) The station site does not lie, within a radio “Quiet Zone” identified in § 1.924 of this chapter.

(b) Conditions applicable to remote pickup broadcast auxiliary stations. (1) The auxiliary station must be located within 80 km (50 mi) of the broadcast studio or broadcast transmitter.

(2) The applicant must coordinate the operation with all affected co-channel and adjacent channel licensees in the area of operation. This requirement can be satisfied by coordination with the local frequency committee if one exists.

(3) Operation under this provision is not permitted between 152.87 MHz and 153.35 MHz.

(c) Conditions applicable to aural and television broadcast auxiliary stations. (1) The applicable frequency coordination procedures have been successfully completed and the filed application is consistent with that coordination.

(2) The station site does lie within an area requiring international coordination.

(3) If operated on frequencies in the 17.8-19.7 GHz band, the station site does not lie within any of the areas identified in § 1.924 of this chapter.

(d) Operation under this section shall be suspended immediately upon notification from the Commission or by the District Director of a Commission field facility, and shall not be resumed until specific authority is given by the Commission or District Director. When authorized by the District Director, short test operations may be made.

(e) Conditional authority ceases immediately if the application(s) is returned by the Commission because it is not acceptable for filing.

(f) Conditional authorization does not prejudice any action the Commission may take on the subject application(s). Conditional authority is accepted with the express understanding that such authority may be modified or cancelled by the Commission at any time without hearing if, in the Commission's discretion, the need for such action arises. An applicant operating pursuant to this conditional authority assumes all risks associated with such operation, the termination or modification of the conditional authority, or the subsequent dismissal or denial of its application(s).

18. Section 74.34 is added to read as follows:

§ 74.34 Period of construction; certification of completion of construction.

(a) Each aural and television broadcast auxiliary station authorized under subparts E and F of this part must be in operation within 18 months from the initial date of grant.

(b) Each remote pickup broadcast auxiliary station authorized under subpart D of this part must be in operation within 12 months from the initial date of grant.

(c) Failure to timely begin operation means the authorization terminates automatically.

(d) Requests for extension of time may be granted upon a showing of good cause pursuant to § 1.946(e) of this chapter.

(e) Construction of any authorized facility or frequency must be completed by the date specified in the license as pursuant to § 1.946 of this chapter.

19. Section 74.402 is revised to read as follows:

§ 74.402 Frequency assignment.

Operation on all channels listed in this section (except: 26.07, 26.11, 26.45, 450.01, 450.02, 450.98, 450.99, 455.01, 455.02, 455.98, and 455.99 MHz) shall be in accordance with the “priority of use” provisions in § 74.403(b). The channel will be assigned by its center frequency, channel bandwidth, and emission designator. In general, the frequencies listed in this section represent the center of the channel or channel segment. When an even number of channels are stacked in those sections stacking is permitted, channel assignments may be made for the frequency halfway between those listed.

(a) The following channels (except 1606, 1622, and 1646 kHz) may be assigned for use by broadcast remote pickup stations using any emission (other than single sideband or pulse) that will be in accordance with the provisions of § 74.462:

(1) MF Channels: 1606, 1622, and 1646 kHz. The channel 1606 kHz is subject to the condition listed in paragraph (e)(1) of this section.

(2) HF Channels: 25.87, 25.91, 25.95, 25.99, 26.03, 26.07, 26.09, 2.611, 26.13, 26.15, 26.17, 26.21, 26.23, 26.25, 26.27, 26.29, 26.31, 26.33, 26.35, 26.37, 26.39, 26.41, 26.43, 26.45, and 26.47 MHz. The channels 25.87-26.09 MHz are subject to the condition listed in paragraph (e)(2) of this section.

(3) VHF Channels: 166.25 and 170.15 MHz. These channels are subject to the condition listed in paragraph (e)(8) of this section.

(4) UHF Channels: 450.01, 450.02, 450.98, 450.99, 455.01, 455.02, 455.98, 455.99 MHz. These channels are subject to the condition listed in paragraph (e)(9) of this section.

(b) Up to four of the following 7.5 kHz VHF segments and up to eight of the following 6.25 kHz UHF segments may be stacked to form a channel which may be assigned for use by broadcast remote pickup stations using any emission contained within the resultant channel in accordance with the provisions of § 74.462:

(1) VHF segments: 152.8625, 152.870, 152.8775, 152.885, 152.8925, 152.900, 152.9075, 152.915, 152.9225, 152.930, 152.9375, 152.945, 152.9525, 152.960, 152.9675, 152.975, 152.9825, 152.990, 152.9975, 153.005, 153.0125, 153.020, 153.0275, 153.035, 153.0425, 153.050, 153.0575, 153.065, 153.0725, 153.080, 153.0875, 153.095, 153.1025, 153.110, 153.1175, 153.125, 153.1325, 153.140, 153.1475, 153.155, 153.1625, 153.170, 153.1775, 153.185, 153.1925, 153.200, 153.2075, 153.215, 153.2225, 153.230, 153.2375, 153.245, 153.2525, 153.260, 153.2675, 153.275, 153.2825, 153.290, 153.2975, 153.305, 153.3125, 153.320, 153.3275, 153.335, 153.3425, 153.350, and 153.3575. These channels are subject to the conditions listed in paragraphs (e)(3), (e)(4), and (e)(5) of this section.

(2) VHF segments: 160.860, 160.8675, 160.875, 160.8825, 160.890, 160.8975, 160.905, 160.9125, 160.920, 160.9275, 160.935, 160.9425, 160.950, 160.9575, 160.965, 160.9725, 160.980, 160.9875, 160.995, 161.0025, 161.010, 161.0175, 161.025, 161.0325, 161.040, 161.0475, 161.055, 161.0625, 161.070, 161.0775, 161.085, 161.0925, 161.100, 161.1075, 161.115, 161.1225, 161.130, 161.1375, 161.145, 161.1525, 161.160, 161.1675, 161.175, 161.1825, 161.190, 161.1975, 161.205, 161.2125, 161.220, 161.2275, 161.235, 161.2425, 161.250, 161.2575, 161.265, 161.2725, 161.280, 161.2875, 161.295, 161.3025, 161.310, 161.3175, 161.325, 161.3325, 161.340, 161.3475, 161.355, 161.3625, 161.370, 161.3775, 161.385, 161.3925, 161.400. These channels are subject to the condition listed in paragraph (e)(6) of this section.

(3) VHF segments: 161.625, 161.6325, 161.640, 161.6475, 161.655, 161.6625, 161.670, 161.6775, 161.685, 161.6925, 161.700, 161.7075, 161.715, 161.7225, 161.730, 161.7375, 161.745, 161.7525, 161.760, 161.7675, 161.775. These channels are subject to the conditions listed in paragraphs (e)(4) and (e)(7) of this section.

(4) UHF segments: 450.03125, 450.0375, 450.04375, 450.050, 450.05625, 450.0625, 450.06875, 450.075, 450.08125, 450.0875, 450.09375, 450.100, 450.10625, 450.1125, 450.11875, 450.125, 450.13125, 450.1375, 450.14375, 450.150, 450.15625, 450.1625, 450.16875, 450.175, 450.18125, 450.1875, 450.19375, 450.200, 450.20625, 450.2125, 450.21875, 450.225, 450.23125, 450.2375, 450.24375, 450.250, 450.25625, 450.2625, 450.26875, 450.275, 450.28125, 450.2875, 450.29375, 450.300, 450.30625, 450.3125, 450.31875, 450.325, 450.33125, 450.3375, 450.34375, 450.350, 450.35625, 450.3625, 450.36875, 450.375, 450.38125, 450.3875, 450.39375, 450.400, 450.40625, 450.4125, 450.41875, 450.425, 450.43125, 450.4375, 450.44375, 450.450, 450.45625, 450.4625, 450.46875, 450.475, 450.48125, 450.4875, 450.49375, 450.500, 450.50625, 450.5125, 450.51875, 450.525, 450.53125, 450.5375, 450.54375, 450.550, 450.55625, 450.5625, 450.56875, 450.575, 450.58125, 450.5875, 450.59375, 450.600, 450.60625, 450.6125, 450.61875, 455.03125, 455.0375, 455.04375, 455.050, 455.05625, 455.0625, 455.06875, 455.075, 455.08125, 455.0875, 455.09375, 455.100, 455.10625, 455.1125, 455.11875, 455.125, 455.13125, 455.1375, 455.14375, 455.150, 455.15625, 455.1625, 455.16875, 455.175, 455.18125, 455.1875, 455.19375, 455.200, 455.20625, 455.2125, 455.21875, 455.225, 455.23125, 455.2375, 455.24375, 455.250, 455.25625, 455.2625, 455.26875, 455.275, 455.28125, 455.2875, 455.29375, 455.300, 455.30625, 455.3125, 455.31875, 455.325, 455.33125, 455.3375, 455.34375, 455.350, 455.35625, 455.3625, 455.36875, 455.375, 455.38125, 455.3875, 455.39375, 455.400, 455.40625, 455.4125, 455.41875, 455.425, 455.43125, 455.4375, 455.44375, 455.450, 455.45625, 455.4625, 455.46875, 455.475, 455.48125, 455.4875, 455.49375, 455.500, 455.50625, 455.5125, 455.51875, 455.525, 455.53125, 455.5375, 455.54375, 455.550, 455.55625, 455.5625, 455.56875, 455.575, 455.58125, 455.5875, 455.59375, 455.600, 455.60625, 455.6125, 455.61875.

(c) Up to two of the following 25 kHz segments may be stacked to form a channel which may be assigned for use by broadcast remote pickup stations using any emission contained within the resultant channel in accordance with the provisions of § 74.462. Users committed to 50 kHz bandwidths and transmitting program material will have primary use of these channels.

(1) UHF segments: 450.6375, 450.6625, 450.6875, 450.7125, 450.7375, 450.7625, 450.7875, 450.8125, 450.8375, 450.8625, 455.6375, 455.6625, 455.6875, 455.7125, 455.7375, 455.7625, 455.7875, 455.8125, 455.8375, 455.8625 MHz.

(2) [Reserved]

(d) Up to two of the following 50 kHz segments may be stacked to form a channel which may be assigned for use by broadcast remote pickup stations using any emission contained within the resultant channel in accordance with the provisions of § 74.462. Users committed to 100 kHz bandwidths and transmitting program material will have primary use of these channels.

(1) UHF segments: 450.900, 450.950, 455.900, and 455.950 MHz.

(2) [Reserved]

(e) Conditions on Broadcast Remote Pickup Service channel usage as referred to in paragraphs (a) through (d) of this section:

(1) Operation is subject to the condition that no harmful interference is caused to the reception of AM broadcast stations.

(2) Operation is subject to the condition that no harmful interference is caused to stations in the broadcast service.

(3) Operation is subject to the condition that no harmful interference is caused to stations operating in accordance with the Table of Frequency Allocations set forth in part 2 of this chapter. Applications for licenses to use frequencies in this band must include statements showing what procedures will be taken to ensure that interference will not be caused to stations in the Industrial/Business Pool (part 90 of this chapter).

(4) These frequencies will not be licensed to network entities.

(5) These frequencies will not be authorized to new stations for use on board aircraft.

(6) These frequencies are allocated for assignment to broadcast remote pickup stations in Puerto Rico or the Virgin Islands only.

Note to Paragraph (e)(6): These frequencies are shared with Public Safety and Industrial/Business Pools (part 90 of this chapter).

(7) These frequencies may not be used by broadcast remote pickup stations in Puerto Rico or the Virgin Islands. In other areas, certain existing stations in the Public Safety and Industrial/Business Pools (part 90 of this chapter) have been permitted to continue operation on these frequencies on the condition that no harmful interference is caused to broadcast remote pickup stations.

(8) Operation on the frequencies 166.25 MHz and 170.15 MHz is not authorized:

(i) Within the area bounded on the west by the Mississippi River, on the north by the parallel of latitude 37 degrees 30 minutes N., and radius equal to the air-line distance between Springfield, Ill., and Montgomery, Alabama, subtended between the foregoing west and north boundaries;

(ii) Within 150 miles (241 km) of New York City; and

(iii) In Alaska or outside the continental United States; and is subject to the condition that no harmful interference is caused radio stations in the band 162-174 MHz.

(9) The use of these frequencies is limited to operational communications, including tones for signaling and for remote control and automatic transmission system control and telemetry.

(f) License applicants shall request assignment of only those channels, both in number and bandwidth, necessary for satisfactory operation and for which the system is equipped to operate. However, it is not necessary that each transmitter within a system be equipped to operate on all frequencies authorized to that licensee.

(g) Remote pickup stations or systems will not be granted exclusive channel assignments. The same channel or channels may be assigned to other licensees in the same area. When such sharing is necessary, the provisions of § 74.403 shall apply.

20. Section 74.431 is amended by removing and reserving paragraph (g) and revising paragraph (i) to read as follows:

§ 74.431 Special rules applicable to remote pickup stations.

* * * * *

(i) Remote pickup mobile or base stations may be used for activities associated with the Emergency Alert System (EAS) and similar emergency survival communications systems. Drills and tests are also permitted on these stations, but the priority requirements of § 74.403(b) must be observed in such cases.

21. Section 74.432 is amended by revising paragraphs (b), (g), and (k) and by designating the Note at the end of the section as Note to § 74.432 to read as follows:

§ 74.432 Licensing requirements and procedures.

* * * * *

(b) Base stations may operate as automatic relay stations on the frequencies listed in § 74.402(b)(4) and (c)(1) under the provisions of § 74.436, however, one licensee may not operate such stations on more than two frequency pairs in a single area.

* * * * *

(g) An application for a remote pickup broadcast station or system shall specify the broadcasting station with which the remote pickup broadcast facility is to be principally used and the licensed area of operation for a system which includes mobile stations shall be the area considered to be served by the associated broadcasting station. Mobile stations may be operated outside the licensed area of operation pursuant to § 74.24. Where the applicant for remote pickup broadcast facilities is the licensee of more than one class of broadcasting station (AM, FM, TV), all licensed to the same community, designation of one such station as the associated broadcasting station will not preclude use of the remote pickup broadcast facilities with those broadcasting stations not included in the designation and such additional use shall be at the discretion of the licensee.

* * * * *

(k) In case of permanent discontinuance of operations of a station licensed under this subpart, the licensee shall cancel the station license using FCC Form 601. For purposes of this section, a station which is not operated for a period of one year is considered to have been permanently discontinued.

Note to § 74.432: * * *

22. Section 74.433 is amended by revising paragraphs (b) and (c) to read as follows:

§ 74.433 Temporary authorizations.

* * * * *

(b) A request for special temporary authority for the operation of a remote pickup broadcast station must be made in accordance with the procedures of § 1.931(b) of this chapter.

(c) All requests for special temporary authority of a remote pickup broadcast station must include full particulars including: licensee's name and address, facility identification number of the associated broadcast station or stations, call letters of remote pickup station (if assigned), type and manufacturer of equipment, power output, emission, frequency or frequencies proposed to be used, commencement and termination date, location of operation and purpose for which request is made including any particular justification.

* * * * *

23. Section 74.451 is amended by revising paragraph (a) to read as follows:

§ 74.451 Certification of equipment.

(a) Applications for new remote pickup broadcast stations or systems or for changing transmitting equipment of an existing station will not be accepted unless the transmitters to be used have been certificated by the FCC pursuant to the provisions of this subpart, or have been certificated for licensing under part 90 of this chapter and do not exceed the output power limits specified in § 74.461(b).

* * * * *

24. Section 74.452 is revised to read as follows:

§ 74.452 Equipment changes.

(a) Modifications may be made to an existing authorization in accordance with §§ 1.929 and 1.947 of this chapter.

(b) All transmitters initially installed after November 30, 1977, must be certificated for use in this service or other service as specified in § 74.451(a).

25. Section 74.462 is amended by revising paragraph (a) and the table in paragraph (b), by removing paragraphs (f) and (g) and by designating the Note at the end of the section as Note to § 74.462 to read as follows:

§ 74.462 Authorized bandwidth and emissions.

(a) Each authorization for a new remote pickup broadcast station or system shall require the use of certificated equipment and such equipment shall be operated in accordance with emission specifications included in the grant of certification and as prescribed in paragraphs (b), (c), and (d) of this section.

(b) * * *

Frequencies | Authorized bandwidth (kHz) | Maximum frequency deviation ¹ (kHz) | Type of emission ²
KHz 1606, 1622, and 1646 | 10 | N/A | A3E
MHz:
25.87 to 26.03 | 40 | 10 | A3E, F1E, F3E, F9E
26.07 to 26.47 | 20 | 5 | A3E, F1E, F3E, F9E
152.8625 to 153.3575 ³ | 30/60 | 5/10 | A3E, F1E, F3E, F9E
160.860 to 161.400 | 60 | 10 | A1E, A2E, A3E, F1E, F2E, F3E, F9E
161.625 to 161.775 | 30 | 5 | A1E, A2E, A3E, F1E, F2E, F3E, F9E
166.25 and 170.15 ⁴ | 12.5/25 | 5 | A1E, A2E, A3E, F1E, F2E, F3E, F9E
450.01, 450.02, 450.98, 450.99, 455.01, 455.02, 455.98, 455.99 | 10 | 1.5 | A1E, A2E, A3E, F1E, F2E, F3E, F9E
450.03125 to 450.61875, 455.03125 to 455.61875 | Up to 25 | 5 | A1E, A2E, A3E, F1E, F2E, F3E, F9E
450.6375 to 450.8625, 455.6375 to 455.8625 | 25-50 | 10 | A1E, A2E, A3E, F1E, F2E, F3E, F9E
450.900, 450.950, 455.900, 450.950 | 50-100 | 35 | A1E, A2E, A3E, F1E, F2E, F3E, F9E
¹ Applies where F1E, F2E, F3E, or F9E emissions are used.
² Stations operating above 450 MHz shall show a need for employing A1E, A2E, F1E, or F2E emission.
³ New or modified licenses for use of the frequencies will not be granted to utilize transmitters on board aircraft, or to use a bandwidth in excess of 30 kHz and maximum deviation exceeding 5 kHz
⁴ After January 1, 1995, all new systems, and after January 1, 2005, all systems must be capable of operating within a 12.5 kHz channel.

* * * * *

Note to § 74.462: * * *

26. Section 74.482 is amended by revising paragraphs (a) and (e) and by designating the Note at the end of the section as Note to § 74.482 to read as follows:

§ 74.482 Station identification.

(a) Each remote pickup broadcast station shall be identified by the transmission of the assigned station or system call sign, or by the call sign of the associated broadcast station. For systems, the licensee (including those operating pursuant to § 74.24) shall assign a unit designator to each station in the system. The call sign and (unit designator, where appropriate) shall be transmitted at the beginning and end of each period of operation. A period of operation may consist of a single continuous transmission, or a series of intermittent transmissions pertaining to a single event.

* * * * *

(e) For stations using F1E or G1E emissions, identification shall be transmitted in the unscrambled analog (F3E) mode or in International Morse Code pursuant to the provisions of paragraph (d) of this section at intervals not to exceed 15 minutes. For purposes of rule enforcement, all licensees using F1E or G1E emissions shall provide, upon request by the Commission, a full and complete description of the encoding methodology they currently use.

Note to § 74.482: * * *

27. Section 74.502 is amended by removing the first four sentences of paragraph (b) introductory text and adding five new sentences in their place to read as follows:

§ 74.502 Frequency assignment.

* * * * *

(b) The frequency band 944-952 MHz is available for assignment to aural STL and ICR stations. One or more of the following 25 kHz segments may be stacked to form a channel which may be assigned with a maximum authorized bandwidth of 300 kHz except as noted further. The frequencies listed further are the centers of individual segments. When stacking an even number of segments, the center frequency specified will deviate from the list further in that it should correspond to the actual center of stacked channels. When stacking an odd number of channels, the center frequency specified will correspond to one of the frequencies listed further. * * *

* * * * *

28. Section 74.532 is amended by removing the Note following paragraph (d) and revising paragraph (f) to read as follows:

§ 74.532 Licensing requirements.

* * * * *

(f) In case of permanent discontinuance of operations of a station licensed under this subpart, the licensee shall cancel the station license using FCC Form 601. For purposes of this section, a station which is not operated for a period of one year is considered to have been permanently discontinued.

29. Section 74.534 is revised to read as follows:

§ 74.534 Power limitations.

(a) Transmitter output power. (1) Transmitter output power shall be limited to that necessary to accomplish the function of the system.

(2) In the 17,700 to 19,700 MHz band, transmitter output power shall not exceed 10 watts.

(b) In no event shall the average equivalent isotropically radiated power (EIRP), as referenced to an isotropic radiator, exceed the values specified in this section. In cases of harmful interference, the Commission may, after notice and opportunity for hearing, order a change in the effective radiated power of this station. The maximum transmitter output power and maximum allowable (EIRP) follows:

Frequency band (MHz) | Maximum transmitter output power (watts) ¹ | Maximum allowable EIRP (dBW)
944 to 952 |  | +40
17,700 to 18,600 | 10.0 | +55
18,600 to 19,700 |  | +35
¹ Peak envelop power.

(c) The EIRP of transmitters that use Automatic Transmitter Power Control (ATPC) shall not exceed the EIRP specified on the station authorization. The EIRP of non-ATPC transmitters shall be maintained as near as practicable to the EIRP specified on the station authorization.

30. Section 74.535 is amended by revising paragraphs (a), (b) and (d), removing paragraphs (e) and (f), and redesignating paragraph (g) as new paragraph (e) to read as follows:

§ 74.535 Emission and bandwidth.

(a) The mean power of emissions shall be attenuated below the mean transmitter power (P) in accordance with the following schedule:

(1) When using frequency modulation:

(i) On any frequency removed from the assigned (center) frequency by more than 50% up to and including 100% of the authorized bandwidth: At least 25 dB;

(ii) On any frequency removed from the assigned (center) frequency by more than 100% up to and including 250% of the authorized bandwidth: At least 35 dB;

(iii) On any frequency removed from the assigned (center) frequency by more than 250% of the authorized bandwidth: At least 43+10 log10 (mean output power in watts) dB, or 80 dB, whichever is the lesser attenuation.

(2) When using transmissions employing digital modulation techniques:

(i) For operating frequencies below 15 GHz, in any 4 kHz band, the center frequency of which is removed from the assigned frequency by more than 50 percent up to and including 250 percent of the authorized bandwidth: As specified by the following equation but in no event less than 50 decibels:

A = 35 + 0.8(P − 50) + 10 Log10 B.

(Attenuation greater than 80 decibels is not required.)

Where:

A = Attenuation (in decibels) below the mean output power level.

P = Percent removed from the carrier frequency.

B = Authorized bandwidth in MHz.

(ii) For operating frequencies above 15 GHz, in any 1 MHz band, the center frequency of which is removed from the assigned frequency by more than 50 percent up to and including 250 percent of the authorized bandwidth: As specified by the following equation but in no event less than 11 decibels:

A = 11 + 0.4(P − 50) + 10 Log10 B.

(Attenuation greater than 56 decibels is not required)

(iii) In any 4 kHz band, the center frequency of which is removed from the assigned frequency by more than 250 percent of the authorized bandwidth: At least 43+10 Log10 (mean output power in watts) decibels, or 80 decibels, whichever is the lesser attenuation.

(b) For all emissions not covered in paragraph (a) of this section, the peak power of emissions shall be attenuated below the peak envelope transmitter power (P) in accordance with the following schedule:

(1) On any frequency 500 Hz inside the channel edge up to and including 2500 Hz outside the same edge, the following formula will apply:

A = 29 Log10 [(25/11)[(D + 2.5 − (W/2)]²] dB

(Attenuation greater than 50 decibels is not required)

Where:

A = Attenuation (in dB) below the peak envelope transmitter power.

D = the displacement frequency (kHz) from the center of the authorized bandwidth.

W = the channel bandwidth (kHz).

(2) On any frequency removed from the channel edge by more than 2500 Hz: At least 43+10 Log10 (P) dB.

* * * * *

(d) For purposes of compliance with the emission limitation requirements of this section, digital modulation techniques are considered as being employed when digital modulation occupies 50 percent or more to the total peak frequency deviation of a transmitted radio frequency carrier. The total peak frequency deviation will be determined by adding the deviation produced by the digital modulation signal and the deviation produced by any frequency division multiplex (FDM) modulation used. The deviation (D) produced by the FDM signal must be determined in accordance with § 2.202(f) of this chapter.

* * * * *

§ 74.536 [Amended]

31. Section 74.536 is amended by removing the entry for 31.0 to 31.3 and footnotes 2 and 3 from the table in paragraph (c).

32. Section 74.537 is amended by revising paragraphs (b) and (c) to read as follows:

§ 74.537 Temporary authorizations.

* * * * *

(b) A request for special temporary authority for the operation of an aural broadcast STL or an intercity relay station must be made in accordance with the procedures of § 1.931(b) of this chapter.

(c) All requests for special temporary authority of an aural broadcast auxiliary stations must include full particulars including: licensee's name and address, facility identification number of the associated broadcast station(s), call letters of the aural broadcast STL or intercity relay station, if assigned, type and manufacturer of equipment, effective isotropic radiated power, emission, frequency or frequencies proposed for use, commencement and termination date and location of the proposed operation, and purpose for which request is made including any particular justification.

* * * * *

33. Section 74.551 is amended by revising paragraph (a), removing paragraphs (b) and (c), and redesignating paragraph (d) as new paragraph (b) to read as follows:

§ 74.551 Equipment changes.

(a) Modifications may be made to an existing authorization in accordance with §§ 1.929 and 1.947 of this chapter.

* * * * *

§ 74.561 [Amended]

34. Section 74.561 is amended by removing the entry for 31,000 to 31,300 from the table.

35. Section 74.602 is amended by revising paragraph (a) introductory text preceding the table of frequency assignment, footnote 2 of the table in paragraph (a) introductory text, and paragraphs (d), (f), (h), and (i) introductory text and by removing and reserving paragraph (a)(2) to read as follows:

§ 74.602 Frequency assignment.

(a) The following frequencies are available for assignment to television pickup, television STL, television relay and television translator relay stations. The band segments 17,700-18,580 and 19,260-19,700 MHz are available for broadcast auxiliary stations as described in paragraph (g) of this section. Additionally, the band 38.6-40.0 GHz is available for assignment without channel bandwidth limitation to TV pickup stations on a secondary basis to fixed stations. The band segment 6425-6525 MHz is available for broadcast auxiliary stations as described in paragraph (i) of this section. Broadcast network-entities may also use the 1990-2110, 6425-6525 and 6875-7125 MHz bands for mobile television pickup only. The table of frequency follows:

* * * * *

² The band 13.150-13.2125 GHz is reserved exclusively for the assignment of Television Pickup and CARS Pickup stations on a co-equal basis. Fixed television auxiliary stations licensed prior to the effective date of the rules in ET Docket No. 98-206, may continue operation on channels in the 13.15-13.2125 GHz band, subject to periodic license renewals.

* * * * *

(d) Cable television relay service stations may be assigned channels in Band D between 12,700 and 13,200 MHz subject to the condition that no harmful interference is caused to TV STL and TV relay stations authorized at the time of such grants. Similarly, new TV STL and TV relay stations must not cause harmful interference to community antenna relay stations authorized at the time of such grants. The use of channels between 12,700 and 13,200 MHz by TV pickup stations is subject to the condition that no harmful interference is caused to Cable Television Relay Service stations, TV STL and TV relay stations, except as provided for in footnote 2 to the table in paragraph (a) of this section. Band D channels are also shared with certain Private Operational Fixed Stations, see § 74.638.

* * * * *

(f) TV auxiliary stations licensed to low power TV stations and translator relay stations will be assigned on a secondary basis, i.e., subject to the condition that no harmful interference is caused to other TV auxiliary stations assigned to TV broadcast stations, or to cable television relay service stations (CARS) operating between 12,700 and 13,200 MHz. Auxiliary stations licensed to low power TV stations and translator relay stations must accept any interference caused by stations having primary use of TV auxiliary frequencies.

* * * * *

(h) TV STL, TV relay stations, and TV translator relay stations may be authorized to operate fixed point-to-point service on the UHF TV channels 14-69 on a secondary basis and subject to the provisions of subpart G of this part and those specified further:

(1) These stations must not interfere with and must accept interference from current and future full-power UHF-TV stations, LPTV stations, and translator stations. They will also be secondary to land mobile stations in areas where land mobile sharing is currently permitted.

(2) Applications for authorization in accordance with this paragraph may be submitted without an engineering analysis if they comply with the following technical requirements:

(i) Maximum EIRP is limited to 35 dBW;

(ii) Transmitting antenna beamwidth is limited to 25 degrees (measured at the 3 dB points); and

(iii) Vertical polarization is used.

(i) 6425 to 6525 MHz-Mobile Only. Paired and un-paired operations permitted. Use of this spectrum for direct delivery of video programs to the general public or multi-channel cable distribution is not permitted. This band is co-equally shared with mobile stations licensed pursuant to parts 78 and 101 of this chapter. The following channel plans apply:

* * * * *

§ 74.603 [Amended]

36. Section 74.603 is amended by removing and reserving paragraph (b).

§ 74.604 [Amended]

37. Section 74.604 is amended by removing and reserving paragraph (a).

38. Section 74.631 is amended by revising the first sentence of paragraph (a) to read as follows:

§ 74.631 Permissible service.

(a) The licensee of a television pickup station authorizes the transmission of program material, orders concerning such program material, and related communications necessary to the accomplishment of such transmissions, from the scenes of events occurring in places other than a television studio, to its associated television broadcast station, to an associated television relay station, to such other stations as are broadcasting the same program material, or to the network or networks with which the television broadcast station is affiliated. * * *

* * * * *

39. Section 74.632 is amended by removing the last two sentences of paragraph (a) and the Note following paragraph (f), and revising paragraphs (c), (e), and (g).

§ 74.632 Licensing requirements.

* * * * *

(c) An application for a new TV pickup station shall designate the TV broadcast station with which it is to be operated and specify the area in which the proposed operation is intended. The maximum permissible area of operation will generally be that of a standard metropolitan area, unless a special showing is made that a larger area is necessary.

* * * * *

(e) A license for a TV translator relay station will be issued only to licensees of low power TV and TV translator stations. However, a television translator relay station license may be issued to a cooperative enterprise wholly owned by licensees of television broadcast translators or licensees of television broadcast translators and cable television owners or operators upon a showing that the applicant is qualified under the Communication Act of 1934, as amended.

* * * * *

(g) In case of permanent discontinuance of operations of a station licensed under this subpart, the licensee shall cancel the station license using FCC Form 601. For purposes of this section, a station which is not operated for a period of one year is considered to have been permanently discontinued.

40. Section 74.633 is amended by revising paragraphs (b) and (c) to read as follows:

§ 74.633 Temporary authorizations.

* * * * *

(b) A request for special temporary authority for the operation of a remote pickup broadcast station must be made in accordance with the procedures of § 1.931(b) of this chapter.

(c) All requests for special temporary authority of a television broadcast auxiliary station must include full particulars including: licensee's name and address, facility identification number of the associated broadcast station(s) (if any), call letters of the television broadcast STL or intercity relay station (if assigned), type and manufacturer of equipment, effective isotropic radiated power, emission, frequency or frequencies proposed for use, commencement and termination date and location of the proposed operation, and purpose for which request is made including any particular justification.

* * * * *

41. Section 74.636 is revised to read as follows:

§ 74.636 Power limitations.

(a) On any authorized frequency, transmitter peak output power and the average power delivered to an antenna in this service must be the minimum amount of power necessary to carry out the communications desired and shall not exceed the values listed in this paragraph (a). Application of this principle includes, but is not to be limited to, requiring a licensee who replaces one or more of its antennas with larger antennas to reduce its antenna input power by an amount appropriate to compensate for the increased primary lobe gain of the replacement antenna(s). In no event shall the average equivalent isotropically radiated power (EIRP), as referenced to an isotropic radiator, exceed the values specified in the table in this paragraph (a). In cases of harmful interference, the Commission may, after notice and opportunity for hearing, order a change in the effective radiated power of this station. The table follows:

Frequency band (MHz) | Maximum allowable transmitter power: Fixed (W) | Maximum allowable transmitter power: Mobile (W) | Maximum allowable EIRP: Fixed (dBW) | Maximum allowable EIRP: Mobile (dBW)
2025 to 2110 | 20.0 | 12.0 | +45 | +35
2450 to 2500 | 20.0 | 12.0 | +45 | +35
6425 to 6525 |  | 12.0 |  | +35
6875 to 7125 | 20.0 | 12.0 | +55 | +35
12,700 to 13,250 | 5.0 | 1.5 | +55 | +45
17,700 to 18,600 | 10.0 |  | +55 |
18,600 to 18,800¹ | 10.0 |  | +35 |
18,800 to 19,700 | 10.0 |  | +55 |
¹ The power delivered to the antenna is limited to −3 dBW.

(b) The EIRP of transmitters that use Automatic Transmitter Power Control (ATPC) shall not exceed the EIRP specified on the station authorization. The EIRP of non-ATPC transmitters shall be maintained as near as practicable to the EIRP specified on the station authorization.

42. Section 74.637 is amended by revising paragraphs (a), (b) and (c) and by removing the entries for 31,000 to 31,300 and 38,600 to 40,000 from the table in paragraph (g) to read as follows:

§ 74.637 Emissions and emission limitations.

(a) The mean power of emissions shall be attenuated below the mean transmitter power (P) in accordance with the following schedule:

(1) When using frequency modulation:

(i) On any frequency removed from the assigned (center) frequency by more than 50% up to and including 100% of the authorized bandwidth: At least 25 dB;

(ii) On any frequency removed from the assigned (center) frequency by more than 100% up to and including 250% of the authorized bandwidth: At least 35 dB;

(iii) On any frequency removed from the assigned (center) frequency by more than 250% of the authorized bandwidth: At least 43+10 log ¹⁰ (mean output power in watts) dB, or 80 dB, whichever is the lesser attenuation.

(2) When using transmissions employing digital modulation techniques:

(i) For operating frequencies below 15 GHz, in any 4 kHz band, the center frequency of which is removed from the assigned frequency by more than 50 percent up to and including 250 percent of the authorized bandwidth: As specified by the following equation but in no event less than 50 decibels:

A = 35 + 0.8 (P − 50) + 10 Log10 B.

(Attenuation greater than 80 decibels is not required.)

Where:

A = Attenuation (in decibels) below the mean output power level.

P = Percent removed from the carrier frequency.

B = Authorized bandwidth in MHz.

(ii) For operating frequencies above 15 GHz, in any 1 MHz band, the center frequency of which is removed from the assigned frequency by more than 50 percent up to and including 250 percent of the authorized bandwidth: As specified by the following equation but in no event less than 11 decibels:

A = 11 + 0.4(P − 50) + 10 Log10 B.

(Attenuation greater than 56 decibels is not required.)

(iii) In any 4 kHz band, the center frequency of which is removed from the assigned frequency by more than 250 percent of the authorized bandwidth: At least 43 + 10 Log10 (mean output power in watts) decibels, or 80 decibels, whichever is the lesser attenuation.

(3) Amplitude Modulation. For vestigial sideband AM video: On any frequency removed from the center frequency of the authorized band by more than 50%: at least 50 dB below peak power of the emission.

(b) For all emissions not covered in paragraph (a) of this section, the peak power of emissions shall be attenuated below the peak envelope transmitter power (P) in accordance with the following schedule:

(1) On any frequency 500 Hz inside the channel edge up to and including 2500 Hz outside the same edge, the following formula will apply:

A = 29 Log10 [(25/11)[(D + 2.5 − (W/2)]²] dB

(Attenuation greater than 50 decibels is not required.)

Where:

A = Attenuation (in dB) below the peak envelope transmitter power.

D = the displacement frequency (kHz) from the center of the authorized bandwidth.

W = the channel bandwidth (kHz).

(2) On any frequency removed from the channel edge by more than 2500 Hz: At least 43 + 10 Log10 (P) dB.

(c) For purposes of compliance with the emission limitation requirements of this section, digital modulation techniques are considered as being employed when digital modulation occupies 50 percent or more to the total peak frequency deviation of a transmitted radio frequency carrier. The total peak frequency deviation will be determined by adding the deviation produced by the digital modulation signal and the deviation produced by any frequency division multiplex (FDM) modulation used. The deviation (D) produced by the FDM signal must be determined in accordance with § 2.202(f) of this chapter.

* * * * *

43. Section 74.638 is revised to read as follows:

§ 74.638 Frequency coordination.

(a) Coordination of all assignments above 1990 MHz will be in accordance with the procedure established in § 101.103(d) of this chapter, except that the prior coordination process for mobile (temporary fixed) assignments may be completed orally and the period allowed for response to a coordination notification may be less than 30 days if the parties agree.

(b) Channels in Band D are shared with certain Private Operational Fixed Stations authorized under part 101, § 101.147(p) of this chapter and Cable Television Relay Stations authorized under part 78, § 78.18 of this chapter. All Broadcast Auxiliary use of these bands is subject to coordination using the following procedure:

(1) Before filing an application for new or modified facilities under this part, the applicant must perform a frequency engineering analysis to ensure that the proposed facilities will not cause interference to existing or previously applied for stations in this band of a magnitude greater than that specified in paragraphs (b)(2) and (b)(3) of this section.

(2) The general criteria for determining allowable adjacent or co-channel interference protection to be afforded, regardless of system length or type of modulation, multiplexing or frequency band, shall be such that the interfering signal shall not produce more than 1.0 dB degradation of the practical threshold of the protected receiver. Degradation is determined by calculating the ratio in dB between the desired carrier signal and undesired interfering signal (C/I ratio) appearing at the input to the receiver under investigation (the victim receiver). The development of the C/I ratios from the criteria for maximum allowable interference level per exposure and the methods used to perform path calculations shall follow generally acceptable good engineering practices. Procedures as may be developed by the Electronics Industries Association (EIA), the Institute of Electrical and Electronics Engineers, Inc. (IEEE), the American National Standards Institute (ANSI) or any other recognized authority will be acceptable to the FCC.

(3) Where the development of the carrier to interference ratio (C/I) is not covered by generally acceptable procedures or where the applicant does not wish to develop the carrier to interference ratio, the applicant shall employ the following C/I protection ratios:

(i) Co-channel interference: For both sideband and carrier-beat, (applicable to all bands), the previously authorized system shall be afforded a carrier to interfering signal protection ratio of at least 90 dB.

(ii) Adjacent channel interference: The existing or previously authorized system shall be afforded a carrier to interfering signal protection ratio of at least 56 dB.

44. Section 74.641 is amended by revising paragraphs (a) introductory text, (a)(5) and (b) introductory text and by removing the entry for 31,000 to 31,300 and footnotes 2 and 3 from the table in paragraph (a)(1), to read as follows:

§ 74.641 Antenna systems.

(a) For fixed stations operating above 2025 MHz, the following standards apply:

* * * * *

(5) Pickup stations are not subject to the performance standards stated in this section.

(b) All fixed stations are to use antenna systems in conformance with the standards of this section. TV auxiliary broadcast stations are considered to be located in an area subject to frequency congestion and must employ a Category A antenna when:

* * * * *

45. Section 74.643 is revised to read as follows:

§ 74.643 Interference to geostationary-satellites.

Applicants and licensees must comply with § 101.145 of this chapter to minimize the potential of interference to geostationary satellites.

46. Section 74.644 is amended by revising the table in paragraph (a) and paragraph (b) to read as follows:

§ 74.644 Minimum path lengths for fixed links.

(a) * * *

Frequency band (MHz) | Minimum path length (km)
Below 1990 | n/a
1990-7125 | 17
12,200-13,250 | 5
Above 17,700 | n/a

(b) For paths shorter than those specified in the Table, the EIRP shall not exceed the value derived from the following equation:

EIRP = MAXEIRP − 40 log(A/B) dBW

Where:

EIRP = The new maximum EIRP (equivalent isotropically radiated power) in dBW.

MAXEIRP = Maximum EIRP as set forth in the Table in § 74.636 of this part.

A = Minimum path length from the Table above for the frequency band in kilometers.

B = The actual path length in kilometers.

Note to Paragraph (b): For transmitters using Automatic Transmitter Power Control, EIRP corresponds to the maximum transmitter power available, not the coordinated transmit power or the nominal transmit power.

* * * * *

47. Section 74.651 is amended by revising paragraphs (a) and (b), removing paragraphs (c) and (d), and redesignating paragraph (e) as new paragraph (c) to read as follows:

§ 74.651 Equipment changes.

(a) Modifications may be made to an existing authorization in accordance with §§ 1.929 and 1.947 of this chapter.

(b) Multiplexing equipment may be installed on any licensed TV broadcast STL, TV relay or translator relay station without authority from the Commission.

* * * * *

§ 74.655 [Amended]

48. Section 74.655 is amended by removing the last sentence of paragraph (a).

49. Section 74.661 is amended by revising the table to read as follows:

§ 74.661 Frequency tolerance.

* * * * *

Frequency band (MHz) | Frequency tolerance (%)
1990 to 2110 | ¹ 0.005
2450 to 2483.5 | 0.001
6425 to 6525 | 0.005
6875 to 7125 | ¹ 0.005
12,700 to 13,250 | ¹ 0.005
17,700 to 18,820 | 0.003
18,920 to 19,700 | 0.003
¹ Television translator relay stations shall maintain a frequency tolerance of 0.002%.

50. Section 74.801 is amended by adding a definition for Wireless Assist Video Device in alphabetical order to read as follows:

§ 74.801 Definitions.

* * * * *

Wireless assist video device. An auxiliary station authorized and operated by motion picture and television program producers pursuant to the provisions of this subpart. These stations are intended to transmit over distances of approximately 300 meters for use as an aid in composing camera shots on motion picture and television sets.

51. Section 74.802 is amended by revising paragraph (b)(3) to read as follows:

§ 74.802 Frequency assignment.

* * * * *

(b) * * *

(3) 470.000-608.000 MHz and 614.000-806.000 MHz: All zones 113 km (70 miles).

* * * * *

52. Section 74.832 is amended by revising paragraphs (e), (g), and (i) to read as follows:

§ 74.832 Licensing requirements and procedures.

* * * * *

(e) An application for low power auxiliary stations or for a change in an existing authorization shall specify the broadcast station, or the network with which the low power broadcast auxiliary facilities are to be principally used as given in paragraph (h) of this section; or it shall specify the motion picture or television production company or the cable television operator with which the low power broadcast auxiliary facilities are to be solely used. A single application, filed on FCC Form 601 may be used in applying for the authority to operate one or more low power auxiliary units. The application must specify the frequency bands which will be used. Motion picture producers, television program producers, and cable television operators are required to attach a single sheet to their application form explaining in detail the manner in which the eligibility requirements given in paragraph (a) of this section are met.

* * * * *

(g) Low power auxiliary licensees shall specify the maximum number of units that will be operated.

* * * * *

(i) In case of permanent discontinuance of operations of a station licensed under this subpart, the licensee shall cancel the station license using FCC Form 601. For purposes of this section, a station which is not operated for a period of one year is considered to have been permanently discontinued.

* * * * *

53. Section 74.833 is amended by revising paragraphs (b) and (c) to read as follows:

§ 74.833 Temporary authorizations.

* * * * *

(b) A request for special temporary authority for the operation of a remote pickup broadcast station must be made in accordance with the procedures of § 1.931(b) of this chapter.

(c) All requests for special temporary authority of a low power auxiliary station must include full particulars including: licensees name and address, statement of eligibility, facility identification number of the associated broadcast station (if any), type and manufacturer of equipment, power output, emission, frequency or frequencies proposed to be used, commencement and termination date, location of proposed operation, and purpose for which request is made including any particular justification.

* * * * *

54. Section 74.870 is added to read as follows:

§ 74.870 Wireless video assist devices.

Television Broadcast Auxiliary licensees and motion picture and television producers, as defined in § 74.801, may operate wireless video assist devices on a non-interference basis on VHF and UHF television channels to assist with production activities.

(a) The use of wireless video assist devices must comply with all provisions of this subpart, except as indicated in paragraphs (b) through (i) of this section.

(b) Wireless video assist devices may only be used for scheduled productions. They may not be used to produce live events and may not be used for electronic news gathering purposes.

(c) Wireless video assist devices may operate with a bandwidth not to exceed 6 MHz on frequencies in the band 180-210 MHz (TV channels 8-12) and 470-698 MHz (TV channels 14-51) subject to the following restrictions:

(1) The bandwidth may only occupy a single TV channel.

(2) Operation is prohibited within the 608-614 MHz (TV channel 37) band.

(3) Operation is prohibited within 129 km of a television broadcasting station, including Class A television stations, low power television stations and translator stations.

(4) For the area and frequency combinations listed in the following table, operation is prohibited within the distances indicated from the listed geographic coordinates (Note: All coordinates are referenced to the North American Datum of 1983.):

Area | North latitude | West longitude | Excluded frequencies (MHz) | Excluded channels: 200 km | Excluded channels: 128 km | Excluded channels: 52 km
Boston, MA | 42°21′24.4″ | 71°03′23.2″ | 470-476 | 14
|  |  | 476-482 |  | 15
|  |  | 482-488 | 16
|  |  | 488-494 |  | 17
Chicago, IL | 41°52′28.1″ | 87°38′22.2″ | 470-476 | 14
|  |  | 476-482 | 15
|  |  | 482-488 |  | 16
Cleveland, OH ¹ | 41°29′ 51.2″ | 81°41′ 49.5″ | 470-476 | 14
|  |  | 476-482 |  | 15
|  |  | 482-488 | 16
|  |  | 488-494 |  | 17
Dallas/Fort Worth, TX | 32°47′09.5″ | 96°47′38.0″ | 476-482 |  | 15
|  |  | 482-488 | 16
|  |  | 488-494 |  | 17
Detroit, MI ¹ | 42°19′48.1″ | 83°02′56.7″ | 470-476 |  | 14
|  |  | 476-482 | 15
|  |  | 482-488 |  | 16
|  |  | 488-494 | 17
Gulf of Mexico |  |  | 476-494 |  |  | 15, 16, 17
Hawaii |  |  | 488-494 |  |  | 17
Houston, TX | 29°45′26.8″ | 95°21′37.8″ | 482-488 |  | 16
|  |  | 488-494 | 17
|  |  | 494-500 |  | 18
Los Angeles, CA | 34°03′15.0″ | 118°14′31.3″ | 470-476 | 14
|  |  | 476-482 |  | 15
|  |  | 482-488 | 16
|  |  | 488-494 |  | 17
|  |  | 500-506 |  | 19
|  |  | 506-512 | 20
|  |  | 512-518 |  | 21
Miami, Fl | 25°46′38.4″ | 80°11′31.2″ | 470-476 | 14
|  |  | 476-482 |  | 15
New York/N.E. New Jersey | 40°45′06.4″ | 73°59′37.5″ | 470-476 | 14
|  |  | 476-482 | 15
|  |  | 482-488 | 16
|  |  | 488-494 |  | 17
Philadelphia, PA | 39°56′58.4″ | 75°09′19.6″ | 494-500 |  | 18
|  |  | 500-506 | 19
|  |  | 506-512 | 20
|  |  | 512-518 |  | 21
Pittsburgh, PA | 40°26′19.2″ | 79°59′59.2″ | 470-476 | 14
|  |  | 476-482 |  | 15
|  |  | 488-494 |  | 17
|  |  | 494-500 | 18
|  |  | 500-506 |  | 19
San Francisco/Oakland, CA | 37°46′38.7″ | 122°24′43.9″ | 476-482 |  | 15
|  |  | 482-488 | 16
|  |  | 488-494 | 17
|  |  | 494-500 |  | 18
Washington D.C./MD/VA | 38°53′51.4″ | 77°00′31.9″ | 482-488 |  | 16
|  |  | 488-494 | 17
|  |  | 494-500 | 18
|  |  | 500-506 |  | 19
¹ The distance separation requirements are not applicable in these cities until further order from the Commission.

(d) Wireless video assist devices are limited to a maximum of 250 milliwatts ERP and must limit power to that necessary to reliably receive a signal at a distance of 300 meters.

(e) The antenna of a wireless video assist device must be permanently attached to the transmitter. When transmitting the antenna must not be more that 10 meters above ground level.

(f)(1) A license for a wireless video assist device will authorize the license holder to use all frequencies available for wireless video assist devices, subject to the limitations specified in this section.

(2) Licensees may operate as many wireless video assist devices as necessary, subject to the notification procedures of this section.

(g) Notification procedure. Prior to the commencement of transmitting, licensees must notify the local broadcasting coordinator of their intent to transmit. If there is no local coordinator in the intended area of operation, licensees must notify all adjacent channel TV stations within 161 km (100 mi) of the proposed operating area.

(1) Notification must be made at least 10 working days prior to the date of intended transmission.

(2) Notifications must include:

(i) Frequency or frequencies.

(ii) Location.

(iii) Antenna height.

(iv) Emission type(s).

(v) Effective radiated power.

(vi) Intended dates of operation.

(vii) Licensee contact information.

(3) Failure of a coordinator to respond to a notification request prior to the intended dates of operation indicated on the request will be considered as having the approval of the coordinator.

(4) Licensees must operate in a manner consistent with the response of the coordinator. Disagreements may be appealed to the Commission. However, in those instances, the licensee will bear the burden of proof and proceeding to overturn a coordinator's recommendation.

(h) Licenses for wireless video assist devices may not be transferred or assigned.

(i) The product literature that manufacturers include with a wireless assist video device must contain information regarding the requirement for users to obtain an FCC license, the requirement that stations must locate at least 129 kilometers away from a co-channel TV station, the limited class of users that may operate these devices, the authorized uses, the need for users to obtain a license, and the requirement that a local coordinator (or adjacent channel TV stations, if there is no local coordinator) must be notified prior to operation.

55. Section 74.882 is revised to read as follows:

§ 74.882 Station identification.

(a) For transmitters used for voice transmissions and having a transmitter output power exceeding 50 mW, an announcement shall be made at the beginning and end of each period of operation at a single location, over the transmitting unit being operated, identifying the transmitting unit's call sign or designator, its location, and the call sign of the broadcasting station or name of the licensee with which it is being used. A period of operation may consist of a continuous transmission or intermittent transmissions pertaining to a single event.

(b) Each wireless video assist device, when transmitting, must transmit station identification at the beginning and end of each period of operation. Identification may be made by transmitting the station call sign by visual or aural means or by automatic transmission in international Morse telegraphy.

(1) A period of operation is defined as a single uninterrupted transmission or a series of intermittent transmissions from a single location.

(2) Station identification shall be performed in a manner conducive to prompt association of the signal source with the responsible licensee. In exercising the discretion provided by this section, licensees are expected to act in a responsible manner to assure that result.

PART 78—CABLE TELEVISION RELAY SERVICE

56. The authority citation for part 78 continues to read as follows:

Authority: Secs. 2, 3, 4, 301, 303, 307, 308, 309, 48 Stat., as amended, 1064, 1065, 1066, 1081, 1082, 1083, 1084, 1085; 47 U.S.C. 152, 153, 154, 301, 303, 307, 308, 309.

57. Section 78.36 is revised to read as follows:

§ 78.36 Frequency coordination.

(a) Coordination of all assignments will be in accordance with the procedure established in paragraph (b) of this section, except that the prior coordination process for mobile (temporary fixed) assignments may be completed orally and the period allowed for response to a coordination notification may be less than 30 days if the parties agree.

(b) Frequency coordination. For each frequency authorized under this part, the following frequency usage coordination procedures will apply:

(1) General requirements. Proposed frequency usage must be prior coordinated with existing licensees, permittees and applicants in the area, and other applicants with previously filed applications, whose facilities could affect or be affected by the new proposal in terms of frequency interference on active channels, applied-for channels, or channels coordinated for future growth. Coordination must be completed prior to filing an application for regular authorization, or a major amendment to a pending application, or any major modification to a license. In coordinating frequency usage with stations in the fixed satellite service, applicants must also comply with the requirements of § 101.21(f) of this chapter. In engineering a system or modification thereto, the applicant must, by appropriate studies and analyses, select sites, transmitters, antennas and frequencies that will avoid interference in excess of permissible levels to other users. All applicants and licensees must cooperate fully and make reasonable efforts to resolve technical problems and conflicts that may inhibit the most effective and efficient use of the radio spectrum; however, the party being coordinated with is not obligated to suggest changes or re-engineer a proposal in cases involving conflicts. Applicants should make every reasonable effort to avoid blocking the growth of systems as prior coordinated. The applicant must identify in the application all entities with which the technical proposal was coordinated. In the event that technical problems are not resolved, an explanation must be submitted with the application. Where technical problems are resolved by an agreement or operating arrangement between the parties that would require special procedures be taken to reduce the likelihood of interference in excess of permissible levels (such as the use of artificial site shielding) or would result in a reduction of quality or capacity of either system, the details thereof may be contained in the application.

(2) Coordination procedure guidelines are as follows:

(i) Coordination involves two separate elements: notification and response. Both or either may be oral or in written form. To be acceptable for filing, all applications and major technical amendments must certify that coordination, including response, has been completed. The names of the licensees, permittees and applicants with which coordination was accomplished must be specified. If such notice and/or response is oral, the party providing such notice or response must supply written documentation of the communication upon request;

(ii) Notification must include relevant technical details of the proposal. At minimum, this should include, as applicable, the following:

(A) Applicant's name and address.

(B) Transmitting station name.

(C) Transmitting station coordinates.

(D) Frequencies and polarizations to be added, changed or deleted.

(E) Transmitting equipment type, its stability, actual output power, emission designator, and type of modulation (loading).

(F) Transmitting antenna type(s), model, gain and, if required, a radiation pattern provided or certified by the manufacturer.

(G) Transmitting antenna center line height(s) above ground level and ground elevation above mean sea level.

(H) Receiving station name.

(I) Receiving station coordinates.

(J) Receiving antenna type(s), model, gain, and, if required, a radiation pattern provided or certified by the manufacturer.

(K) Receiving antenna center line height(s) above ground level and ground elevation above mean sea level.

(L) Path azimuth and distance.

(M) Estimated transmitter transmission line loss expressed in dB.

(N) Estimated receiver transmission line loss expressed in dB.

(O) For a system utilizing ATPC, maximum transmit power, coordinated transmit power, and nominal transmit power;

Note to Paragraph (b)(2)(ii): The position location of antenna sites shall be determined to an accuracy of no less than ±1 second in the horizontal dimensions (latitude and longitude) and ±1 meter in the vertical dimension (ground elevation) with respect to the National Spacial Reference System.

(iii) For transmitters employing digital modulation techniques, the notification should clearly identify the type of modulation. Upon request, additional details of the operating characteristics of the equipment must also be furnished;

(iv) Response to notification should be made as quickly as possible, even if no technical problems are anticipated. Any response to notification indicating potential interference must specify the technical details and must be provided to the applicant, in writing, within the 30-day notification period. Every reasonable effort should be made by all applicants, permittees and licensees to eliminate all problems and conflicts. If no response to notification is received within 30 days, the applicant will be deemed to have made reasonable efforts to coordinate and may file its application without a response;

(v) The 30-day notification period is calculated from the date of receipt by the applicant, permittee, or licensee being notified. If notification is by mail, this date may be ascertained by:

(A) The return receipt on certified mail;

(B) The enclosure of a card to be dated and returned by the recipient; or

(C) A conservative estimate of the time required for the mail to reach its destination. In the last case, the estimated date when the 30-day period would expire should be stated in the notification;

(vi) An expedited prior coordination period (less than 30 days) may be requested when deemed necessary by a notifying party. The coordination notice should be identified as “expedited” and the requested response date should be clearly indicated. However, circumstances preventing a timely response from the receiving party should be accommodated accordingly. It is the responsibility of the notifying party to receive written concurrence (or verbal, with written to follow) from affected parties or their coordination representatives;

(vii) All technical problems that come to light during coordination must be resolved unless a statement is included with the application to the effect that the applicant is unable or unwilling to resolve the conflict and briefly the reason therefor;

(viii) Where a number of technical changes become necessary for a system during the course of coordination, an attempt should be made to minimize the number of separate notifications for these changes. Where the changes are incorporated into a completely revised notice, the items that were changed from the previous notice should be identified. When changes are not numerous or complex, the party receiving the changed notification should make an effort to respond in less than 30 days. When the notifying party believes a shorter response time is reasonable and appropriate, it may be helpful for that party to so indicate in the notice and perhaps suggest a response date;

(ix) If, after coordination is successfully completed, it is determined that a subsequent change could have no impact on some parties receiving the original notification, these parties must be notified of the change and of the coordinator's opinion that no response is required;

(x) Applicants, permittees and licensees should supply to all other applicants, permittees and licensees within their areas of operations, the name, address and telephone number of their coordination representatives. Upon request from coordinating applicants, permittees and licensees, data and information concerning existing or proposed facilities and future growth plans in the area of interest should be furnished unless such request is unreasonable or would impose a significant burden in compilation;

(xi) Parties should keep other parties with whom they are coordinating advised of changes in plans for facilities previously coordinated. If applications have not been filed 6 months after coordination was initiated, parties may assume that such frequency use is no longer desired unless a second notification has been received within 10 days of the end of the 6 month period. Renewal notifications are to be sent to all originally notified parties, even if coordination has not been successfully completed with those parties; and

(xii) Any frequency reserved by a licensee for future use in the bands subject to this part must be released for use by another licensee, permittee or applicant upon a showing by the latter that it requires an additional frequency and cannot coordinate one that is not reserved for future use.

58. Section 78.101 is amended by removing the entry for 2,025 to 2,110 MHz and adding a new entry for 1,990 to 2,110 MHz in numerical order in the table in paragraph (a) and adding paragraph (c) to read as follows:

§ 78.101 Power limitations.

(a) * * * *

Frequency band (MHz) | Maximum allowable transmitter power: Fixed (W) | Maximum allowable transmitter power: Mobile (W) | Maximum allowable EIRP: Fixed (dBW) | Maximum allowable EIRP: Mobile (dBW)
1,990 to 2,110 |  | 20.0 |  | +35
* * * * * * *

* * * * *

(c) The EIRP of transmitters that use Automatic Transmitter Power Control (ATPC) shall not exceed the EIRP specified on the station authorization. The EIRP of non-ATPC transmitters shall be maintained as near as practicable to the EIRP specified on the station authorization.

§ 78.103 [Amended]

59. Section 78.103 is amended by removing the entry for 31,000 to 31,300 from the table in paragraph (e).

§ 78.105 [Amended]

60. Section 78.105 is amended by removing the entries for 31,000 to 31,300 and 38,600 to 40,000, and Footnotes 2 and 3 from the table in paragraph (a)(1).

61. Section 78.106 is revised to read as follows:

§ 78.106 Interference to geostationary-satellites.

Applicants and licensees must comply with § 101.145 of this chapter to minimize the potential of interference to geostationary satellites.

62. Section 78.108 is amended by revising paragraph (b) to read as follows:

§ 78.108 Minimum path lengths for fixed links.

* * * * *

(b) For paths shorter than those specified in the Table in paragraph (a) of this section, the EIRP shall not exceed the value derived from the following equation:

EIRP = MAXEIRP − 40 log(A/B) dBW

Where:

EIRP = The new maximum EIRP (equivalent isotropically radiated power) in dBW.

MAXEIRP = Maximum EIRP as set forth in the Table in § 74.636 of this part.

A = Minimum path length from the Table above for the frequency band in kilometers.

B = The actual path length in kilometers.

Note to Paragraph (b): For transmitters using Automatic Transmitter Power Control, EIRP corresponds to the maximum transmitter power available, not the coordinated transmit power or the nominal transmit power.

* * * * *

§ 78.111 [Amended]

63. Section 78.111 is amended by removing the entry for 31,000 to 31,300 from the table.

[FR Doc. 01-11539 Filed 5-23-01; 8:45 am]

BILLING CODE 6712-01-P